FEDERAL COMMUNICATIONS COMMISSION

47 CFR Part 1

[MD Docket Nos. 19-105; MD Docket Nos. 20-105; FCC 20-64; FRS 16780]

Assessment and Collection of Regulatory Fees for Fiscal Year 2020.

AGENCY: Federal Communications Commission.

ACTION: Notice of proposed rulemaking.

SUMMARY: In this document, the Federal Communications Commission (Commission) seeks comment on several proposals that will impact FY 2020 regulatory fees.

DATES: Submit comments on or before June 12, 2020; and reply comments on or before June 29, 2020.

ADDRESSES: Pursuant to sections 1.415 and 1.419 of the Commission's rules, 47 CFR 1.415, 1.419, interested parties may file comments and reply comments identified by MD Docket No. 20-105, by any of the following methods below. Comments and reply comments may be filed using the Commission's Electronic Comment Filing System (ECFS). See Electronic Filing of Documents in Rulemaking Proceedings, 63 FR 24121 (1998).

1. Electronic Filers: Comments may be filed electronically using the internet by accessing the ECFS: http://apps.fcc.gov/ecfs/.

2. Paper Filers: Parties who choose to file by paper must file an original and one copy of each filing.

3. Filings can be sent by commercial overnight courier, or by first-class or overnight U.S. Postal Service mail. All filings must be addressed to the Commission's Secretary, Office of the Secretary, Federal Communications Commission.

4. Commercial overnight mail (other than U.S. Postal Service Express Mail and Priority Mail) must be sent to 9050 Junction Drive, Annapolis Junction, MD 20701.

5. U.S. Postal Service first-class, Express, and Priority mail must be addressed to 445 12th Street SW, Washington, DC 20554.

6. Effective March 19, 2020, and until further notice, the Commission no longer accepts any hand or messenger delivered filings. This is a temporary measure taken to help protect the health and safety of individuals, and to mitigate the transmission of COVID-19. See FCC Announces Closure of FCC Headquarters Open Window and Change in Hand-Delivery Policy, Public Notice, DA 20-304 (March 19, 2020). https://www.fcc.gov/document/fcc-closes-headquarters-open-window-and-changes-hand-delivery-policy.

7. During the time the Commission's building is closed to the general public and until further notice, if more than one docket or rulemaking number appears in the caption of a proceeding, paper filers need not submit two additional copies for each additional docket or rulemaking number; an original and one copy are sufficient.

For detailed instructions for submitting comments and additional information on the rulemaking process, see the SUPPLEMENTARY INFORMATION section of this document.

FOR FURTHER INFORMATION CONTACT: Roland Helvajian, Office of Managing Director at (202) 418-0444.

SUPPLEMENTARY INFORMATION: This is a summary of the Commission's Notice of Proposed Rulemaking (NPRM), FCC 20-64, MD Docket No. 19-105, and MD Docket No. 20-105, adopted on May 12, 2020 and released on May 13, 2020. The full text of this document is available for inspection and copying during normal business hours in the FCC Reference Center, 445 12th Street SW, Room CY-A257, Portals II, Washington, DC 20554, and may also be purchased from the Commission's copy contractor, BCPI, Inc., Portals II, 445 12th Street SW, Room CY-B402, Washington, DC 20554. Customers may contact BCPI, Inc. via their website, http://www.bcpi.com, or call 1-800-378-3160. This document is available in alternative formats (computer diskette, large print, audio record, and braille). Persons with disabilities who need documents in these formats may contact the FCC by email: FCC504@fcc.gov or phone: 202-418-0530 or TTY: 202-418-0432.

I. Procedural Matters

8. Ex Parte Information. This proceeding shall be treated as a “permit-but-disclose” proceeding in accordance with the Commission's ex parte rules. Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda, or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with section 1.1206(b) of the Commission's rules. In proceedings governed by section 1.49(f) of the Commission's rules or for which the Commission has made available a method of electronic filing, written ex parte presentations and memoranda summarizing oral ex parte presentations, and all attachments thereto, must be filed through the electronic comment filing system available for that proceeding, and must be filed in their native format (e.g., .doc, .xml, .ppt, searchable .pdf). Participants in this proceeding should familiarize themselves with the Commission's ex parte rules.

9. Initial Regulatory Flexibility Analysis. An initial regulatory flexibility analysis (IRFA) is contained in this summary. Comments to the IRFA must be identified as responses to the IRFA and filed by the deadlines for comments on the Notice of Proposed Rulemaking. The Commission will send a copy of the Notice of Proposed Rulemaking, including the IRFA, to the Chief Counsel for Advocacy of the Small Business Administration.

10. Initial Paperwork Reduction Act of 1995 Analysis. This document does not contain new or modified information collection requirements subject to the Paperwork Reduction Act of 1995 (PRA), Public Law 104-13. In addition, therefore, it does not contain any new or modified information collection burden for small business concerns with fewer than 25 employees, pursuant to the Small Business Paperwork Relief Act of 2002, Public Law 107-198, see 44 U.S.C. 3506(c)(4).

II. Notice of Proposed Rulemaking

11. Congress has required the Commission to collect $339,000,000 in regulatory fees for FY 2020. Section 9 of the Act directs the Commission to set regulatory fees to “reflect the full-time equivalent number of employees within the bureaus and offices of the Commission adjusted to take into account factors that are reasonably related to the benefits provided to the payor of the fee by the Commission's activities.” The Commission implements this directive by looking first to identify the bureaus that conduct work that directly benefits fee payors and their FTEs, in order to establish “direct” FTEs. The remaining FTEs and other Commission costs we categorize as indirect. Once we have identified the direct FTEs by operating bureau, we look within each bureau to allocate fees to specific fee categories. The Commission uses these proportional calculations to allocate all Commission non-auction costs, direct and indirect, across all fee categories. To establish specific fees, the FCC identifies “units” that corollate to the benefit provided; for example, broadcast licensee fees will vary by population served ¹ and wireless licensees will pay fees based on their number of subscribers.

12. The Commission projects approximately $30.52 million (9.00% of the total FTE allocation, 28 direct FTEs) in fees from International Bureau regulatees; $79.57 million (23.47% of the total FTE allocation, 73 direct FTEs) in fees from Wireless Telecommunications Bureau regulatees; $102.46 million (30.23% of the total FTE allocation, 94 direct FTEs) from Wireline Competition Bureau regulatees; and $126.45 million (37.30% of the total FTE allocation, 116 direct FTEs) from Media Bureau regulatees. We seek comment on our calculation for the FY 2020 FTEs (311 direct FTEs).

13. International Bearer Circuits. The regulatory fees associated with IBCs reflect the work performed by the International Bureau, primarily the Telecommunications and Analysis Division and the Office of the Bureau Chief, for the benefit of all U.S. international telecommunications service providers. International telecommunications service is provided over terrestrial, satellite, and submarine cable facilities.

14. IBC fees are currently broken into two components: (1) Terrestrial and satellite circuits, and (2) submarine cable systems. Under this bifurcated approach, based on the 2009 Consensus Proposal from the submarine cable operators, 87.6% of IBC fees are assessed to submarine cable systems and 12.4% to terrestrial and satellite facilities based on relative active or lit capacity at the time.

15. In the Further Notice of Proposed Rulemaking attached to the FY 2019 Report and Order sought comment on appropriate allocation within the IBC fee category in response to assertions regarding the relative benefits received by the different IBC components. The Commission proposes a ratio attributing 95% to submarine cables and 5% to terrestrial and satellite circuits. We seek comment on this allocation.

16. The Commission proposes to simplify the assessment by combining the two categories and assess IBC fees based on a unified fee structure. Under this approach, terrestrial and satellite facility owners will pay regulatory fees based on the number of active international circuits using the rates set out in the tiers. Submarine cable operators would continue to pay regulatory fees for each international submarine cable system based on the active (or lit) capacity of the cable system using the same tier.

17. We seek comment on the use of a unified tiered structure for IBCs and these proposed fees, which are based on a ratio attributing 95% to submarine cables and 5% to terrestrial and satellite international bearer circuits. As an alternative, we seek comment on maintaining the current fee structure for international bearer circuits and having the fees for submarine cables based on the proposed tier structure and assessing fees for terrestrial and satellite capacity at $41 per Gbps circuits.

18. Television Broadcaster Issues. This year the Commission proposes to complete the transition to a population-based full-power broadcast television regulatory fee. In the FY 2018 Report and Order, the Commission adopted the new methodology and determined to fully transition to the methodology by FY 2020. In the interim, for FY 2019, the Commission adopted a blended fee based partly on the historical DMA methodology and partly on the new population-based methodology.

19. Accordingly, the Commission now proposes FY 2020 fees for full-power broadcast television stations to be based on the population covered by a full-power broadcast television station's contour. We also propose adopting a factor of .78 of one cent ($.007837) [per person served] for FY 2020 full-power broadcast television station fees. The population data for broadcasters' service areas are extracted from the TVStudy database, based on a station's projected noise-limited service contour. Table 4 lists this population data for each licensee and the population-based fee (population multiplied by $.007837) for each full-power broadcast television station, including each satellite station. We seek comment on these proposed fees.

20. Puerto Rico Broadcasters. The Puerto Rico Broadcasters contend that the population-based methodology overstates the population served by Puerto Rico stations. The Commission agrees and proposes to adjust the fees of such broadcasters in two discrete ways. First, the Commission proposes to account for the objectively measurable reduction in population by reducing the population counts used in TVStudy by 16.9%, or the decline between the last census in 2010 and the current population estimate. Second, the Commission further proposes to limit the market served by a primary television stations and commonly owned satellite broadcast stations in Puerto Rico to no more than 3.10 million people, the latest population estimate. Under this scenario, the fee for television broadcasters and commonly owned satellites, using the proposed population fee of $.007837, would not exceed $24,300. We seek comment on these proposals.

21. The Commission proposes to continue to assess cable TV systems and IPTV providers at the same rate for regulatory fee purposes. The Commission has increased the DBS regulatory fee by 12 cents per subscriber per year in each subsequent year. The DBS regulatory fee is based on the significant number of Media Bureau FTEs that work on MVPD issues that include DBS, “not a particular number of FTEs focused solely on DBS” or “specific recent proceedings.” For FY 2020, the Commission proposes to continue to phase in the DBS regulatory fee by increasing it by 12 cents per subscriber, to 72 cents. This will result in a $ 0.89 fee per subscriber per year for other MVPDs. We seek comment on this proposal.

22. Economic Effects of COVID-19 Pandemic. The Commission recognizes that the ongoing COVID-19 pandemic is having an impact on some of our regulatees' businesses. While many states in this country have begun to permit or are developing plans to permit businesses to re-open, it is not possible to forecast how quickly or to what extent businesses affected by the pandemic will return to normal levels of operation. We seek comment on how to provide assistance to these regulatees in these circumstances.

23. In this regard, we note that the Commission is constrained in three important aspects. First, we are required by statute to collect our FY 2020 appropriation, $339,000,000, as an offsetting collection from our regulatees by September 30, 2020. Second, the Act requires that the FCC allocate our regulatory fees among regulatees in a proportional manner to fairly reflect the value of FTE work expended to benefit regulatees. Finally, the Commission cannot exempt regulatees that are not expressly exempted under the statute. Thus, the fees cannot be reduced in the proposed FY 2020 fees across-the-board. The Commission cannot re-apportion the fees among categories based on, for example, relative ability to pay, and we cannot exempt regulatees based on their financial circumstances.

24. Within those constraints, the Commission has some flexibility to extend payment terms at nominal interest rates for regulatory fee payors that demonstrate they face significant financial challenges, as the Commission undertook in 2017 and 2018 for regulatees whose businesses were devastated by Hurricanes Florence Harvey, Irma, Maria and Florence. We seek comment on how to facilitate similar or additional relief here where appropriate.

25. Additional Regulatory Fee Reform. The Commission also seeks comment on additional regulatory fee reform and ways to further improve our regulatory fee process to make it less burdensome for all entities, including how our fee setting methodologies could be improved or updated to ensure equitability and the costs and benefits of reforming our fee-setting process.

III. Procedural Matters

26. Included below are procedural items as well as our current payment and collection methods. These payments and collection procedures are included as a useful way of reminding regulatory fee payers and the public about these aspects of the annual regulatory fee collection process.

27. Credit Card Transaction Levels. In accordance with Treasury Financial Manual, Volume I, Part 5, Chapter 7000, Section 7045—Limitations on Card Collection Transactions, the highest amount that can be charged on a credit card for transactions with federal agencies is $24,999.99. Transactions greater than $24,999.99 will be rejected. Customers who wish to pay an amount greater than $24,999.99 should consider available electronic alternatives such as Visa or MasterCard debit cards, ACH debits from a bank account, and wire transfers. Further information can be obtained at https://www.fcc.gov/regfees.

28. Payment Methods. Pursuant to an Office of Management and Budget (OMB) directive, the Commission has been moving towards a paperless environment. During the fee season for collecting regulatory fees, regulatees can pay their fees by credit card through Pay.gov, ACH, debit card, or by wire transfer. Additional payment instructions are posted on the Commission's website at http://transition.fcc.gov/fees/regfees.html.

29. Standard Fee Calculations and Payment Dates. The Commission will accept fee payments made in advance of the window for the payment of regulatory fees. The responsibility for payment of fees by service category is as follows:

• Media Services: Regulatory fees must be paid for initial construction permits that were granted on or before October 1, 2019 for AM/FM radio stations, VHF/UHF broadcast television stations, and satellite television stations. Regulatory fees must be paid for all broadcast facility licenses granted on or before October 1, 2019.

• Wireline (Common Carrier) Services: Regulatory fees must be paid for authorizations that were granted on or before October 1, 2019. In instances where a permit or license is transferred or assigned after October 1, 2019, responsibility for payment rests with the holder of the permit or license as of the fee due date. Audio bridging service providers are included in this category. For Responsible Organizations (RespOrgs) that manage Toll Free Numbers (TFN), regulatory fees should be paid on all working, assigned, and reserved toll free numbers, including toll free numbers in any other status as defined in section 52.103 of the Commission's rules. The count should be based on toll free numbers managed by RespOrgs on or about December 31, 2019.

• Wireless Services: CMRS cellular, mobile, and messaging services (fees based on number of subscribers or telephone number count): Regulatory fees must be paid for authorizations that were granted on or before October 1, 2019. The number of subscribers, units, or telephone numbers on December 31, 2019 will be used as the basis from which to calculate the fee payment. In instances where a permit or license is transferred or assigned after October 1, 2019, responsibility for payment rests with the holder of the permit or license as of the fee due date.

• Wireless Services, Multi-year fees: The first eight regulatory fee categories in our Schedule of Regulatory Fees pay “small multi-year wireless regulatory fees.” Entities pay these regulatory fees in advance for the entire ten-year term of their initial licenses, and pay regulatory fees again when the license is renewed, or a new license is obtained. These fee categories are included in our rulemaking to publicize our estimates of the number of “small multi-year wireless” licenses that will be renewed or newly obtained in FY 2020.

• Multichannel Video Programming Distributor Services (cable television operators, CARS licensees, DBS, and IPTV): Regulatory fees must be paid for the number of basic cable television subscribers as of December 31, 2019. Regulatory fees also must be paid for CARS licenses that were granted on or before October 1, 2019. In instances where a permit or license is transferred or assigned after October 1, 2019, responsibility for payment rests with the holder of the permit or license as of the fee due date. For providers of DBS service and IPTV-based MVPDs, regulatory fees should be paid based on a subscriber count on or about December 31, 2019. In instances where a permit or license is transferred or assigned after October 1, 2019, responsibility for payment rests with the holder of the permit or license as of the fee due date.

• International Services (Earth Stations, Space Stations (GSO and NGSO): Regulatory fees must be paid for (1) earth stations and (2) geostationary orbit space stations and non-geostationary orbit satellite systems that were U.S licensed, or non-U.S. licensed but granted U.S. market access, and operational on or before October 1, 2019. In instances where a permit or license is transferred or assigned after October 1, 2019, responsibility for payment rests with the holder of the permit or license as of the fee due date. For FY 2020 only, non-U.S. licensed GSO and NGSO satellites that have been granted market access to the U.S. through a Petition for Declaratory Ruling (PDR) or through an earth station have until July 15, 2020 to relinquish their market access status to avoid having to pay FY 2020 regulatory fees in September 2020. If non-U.S. licensed GSO and NGSO satellites, either through a PDR or an earth station, still have market access after July 15, 2020, regulatory fees will be assessed and payment will be required by the due date of FY 2020 regulatory fees.

• International Services (Submarine Cable Systems, Terrestrial and Satellite Services): Regulatory fees for submarine cable systems are to be paid on a per cable landing license basis based on lit circuit capacity as of December 31, 2019. Regulatory fees for terrestrial and satellite IBCs are to be paid based on active (used or leased) international bearer circuits as of December 31, 2019 in any terrestrial or satellite transmission facility for the provision of service to an end user or resale carrier. When calculating the number of such active circuits, entities must include circuits used by themselves or their affiliates. For these purposes, “active circuits” include backup and redundant circuits as of December 31, 2019. Whether circuits are used specifically for voice or data is not relevant for purposes of determining that they are active circuits. In instances where a permit or license is transferred or assigned after October 1, 2019, responsibility for payment rests with the holder of the permit or license as of the fee due date.

30. Commercial Mobile Radio Service (CMRS) and Mobile Services Assessments. The Commission will compile data from the Numbering Resource Utilization Forecast (NRUF) report that is based on “assigned” telephone number (subscriber) counts that have been adjusted for porting to net Type 0 ports (“in” and “out”). This information of telephone numbers (subscriber count) will be posted on the Commission's electronic filing and payment system (Fee Filer) along with the carrier's Operating Company Numbers (OCNs). A carrier wishing to revise its telephone number (subscriber) count can do so by accessing Fee Filer and follow the prompts to revise their telephone number counts. Providers can view their final telephone counts online in Fee Filer; a final CMRS assessment letter will not be mailed.

31. Carriers that do not file the NRUF report should compute their fee payment using the standard methodology that is currently in place for CMRS Wireless services (i.e., compute their telephone number counts as of December 31, 2019), and submit their fee payment accordingly. The Commission reserves the right to audit the number of telephone numbers upon which regulatory fees are paid, and submit a bill to the carrier for the difference between what was paid and what should have been paid.

List of Tables

Table 1—Calculation of FY 2020 Revenue Requirements and Pro-Rata Fees

Regulatory fees for the categories shaded in gray are collected by the Commission in advance to cover the term of the license and are submitted at the time the application is filed.

Fee category | FY 2020 payment units | Yrs | FY 2019 revenue estimate | Pro-rated FY 2020 revenue requirement | Computed FY 2020 regulatory fee | Rounded FY 2020 reg. fee | Expected FY 2020 revenue
PLMRS (Exclusive Use) | 750 | 10 | $112,500 | $187,500 | 25.00 | 25 | $187,500
PLMRS (Shared use) | 11,700 | 10 | 1,240,000 | 1,170,000 | 10.00 | 10 | 1,170,000
Microwave | 12,600 | 10 | 2,500,000 | 3,150,000 | 25.00 | 25 | 3,150,000
Marine (Ship) | 7,100 | 10 | 1,065,000 | 1,065,000 | 15.00 | 15 | 1,065,000
Aviation (Aircraft) | 5,500 | 10 | 450,000 | 550,000 | 10.00 | 10 | 550,000
Marine (Coast) | 90 | 10 | 24,000 | 36,000 | 40.00 | 40 | 36,000
Aviation (Ground) | 1,100 | 10 | 220,000 | 220,000 | 20.00 | 20 | 220,000
AM Class A ¹ | 62 | 1 | 285,200 | 296,501 | 4,782 | 4,775 | 296,050
AM Class B ¹ | 1,458 | 1 | 3,541,950 | 3,678,692 | 2,523 | 2,525 | 3,681,450
AM Class C ¹ | 819 | 1 | 1,266,000 | 1,317,039 | 1,608 | 1,600 | 1,310,400
AM Class D ¹ | 1,372 | 1 | 4,200,800 | 4,351,447 | 3,172 | 3,175 | 4,356,100
FM Classes A, B1 & C3 ¹ | 2,973 | 1 | 8,823,375 | 9,156,345 | 3,080 | 3,075 | 9,141,975
FM Classes B, C, C0, C1 & C2 ¹ | 2,952 | 1 | 10,833,000 | 11,216,626 | 3,800 | 3,800 | 11,217,600
AM Construction Permits ² | 6 | 1 | 1,785 | 3,720 | 620.1 | 620 | 3,720
FM Construction Permits ² | 60 | 1 | 67,000 | 64,500 | 1,075 | 1,075 | 64,500
Digital Television ⁵ (including Satellite TV) | 3.25 billion population | 1 | 24,294,675 | 25,473,855 | .00783665 | .007837 | 25,473,855
Digital TV Construction Permits ² | 3 | 1 | 13,350 | 14,850 | 4,950 | 4,950 | 14,850
LPTV/Translators/Boosters/Class A TV | 5,340 | 1 | 1,621,500 | 1,684,648 | 315.5 | 315 | 1,682,100
CARS Stations | 160 | 1 | 202,125 | 208,683 | 1,304 | 1,300 | 208,000
Cable TV Systems, including IPTV | 55,500,000 | 1 | 49,020,000 | 49,207,472 | .887 | .89 | 49,395,000
Direct Broadcast Satellite (DBS) | 27,800,000 | 1 | 18,000,000 | 20,117,050 | .724 | .72 | 20,116,000
Interstate Telecommunication Service Providers | 30,700,000,000 | 1 | 102,708,000 | 98,504,384 | 0.003209 | 0.00321 | 98,547,000
Toll Free Numbers | 33,000,000 | 1 | 3,960,000 | 3,975,316 | 0.1205 | 0.12 | 3,960,000
CMRS Mobile Services (Cellular/Public Mobile) | 425,000,000 | 1 | 79,990,000 | 72,127,369 | 0.1697 | 0.17 | 72,250,000
CMRS Messaging Services | 1,900,000 | 1 | 152,000 | 152,000 | 0.0800 | 0.080 | 152,000
BRS/ ³ LMDS | 1,280 340 | 1 1 | 869,400 96,600 | 716,800 190,400 | 560 560 | 560 560 | 716,800 190,400
Per Gbps circuit Int'l Bearer Circuits Terrestrial (Common & Non-Common) & Satellite (Common & Non-Common) | 10,700 | 1 | 900,240 | 436,293 | 40.8 | 41 | 438,700
Submarine Cable Providers (See chart at bottom of Table 2) ⁴ | 31.063 | 1 | 6,363,741 | 8,280,414 | 266,573 | 266,575 | 8,280,486
Earth Stations | 3,000 | 1 | 1,402,500 | 1,678,050 | 559 | 560 | 1,680,000
Space Stations (Geostationary) | 179 | 1 | 15,643,250 | 16,092,194 | 89,901 | 89,900 | 16,092,100
Space Stations (Non-Geostationary) | 14 | 1 | 1,084,125 | 4,023,049 | 287,361 | 287,350 | 4,022,900
****** Total Estimated Revenue to be Collected |  |  | 340,929,616 | 338,686,759 |  |  | 338,911,046
****** Total Revenue Requirement |  |  | 339,000,000 | 339,000,000 |  |  | 339,000,000
Difference |  |  | 1,929,616 | (313,241) |  |  | (88,954)
Notes on Table 1
¹ The fee amounts listed in the column entitled “Rounded New FY 2020 Regulatory Fee” constitute a weighted average broadcast regulatory fee by class of service. The actual FY 2020 regulatory fees for AM/FM radio station are listed on a grid located at the end of Table 2.
² The AM and FM Construction Permit revenues and the Digital (VHF/UHF) Construction Permit revenues were adjusted, respectively, to set the regulatory fee to an amount no higher than the lowest licensed fee for that class of service. Reductions in the Digital (VHF/UHF) Construction Permit revenues, and in the AM and FM Construction Permit revenues, were offset by increases in the revenue totals for Digital television stations by market size, and in the AM and FM radio stations by class size and population served, respectively.
³ The MDS/MMDS category was renamed Broadband Radio Service (BRS). See Amendment of Parts 1, 21, 73, 74 and 101 of the Commission's Rules to Facilitate the Provision of Fixed and Mobile Broadband Access, Educational and Other Advanced Services in the 2150-2162 and 2500-2690 MHz Bands, Report & Order and Further Notice of Proposed Rulemaking, 19 FCC Rcd 14165, 14169, para. 6 (2004).
⁴ The chart at the end of Table 2 lists the submarine cable bearer circuit regulatory fees (common and non-common carrier basis) that resulted from the adoption of the Assessment and Collection of Regulatory Fees for Fiscal Year 2008, Report and Order and Further Notice of Proposed Rulemaking, 24 FCC Rcd 6388 (2008) and Assessment and Collection of Regulatory Fees for Fiscal Year 2008, Second Report and Order, 24 FCC Rcd 4208 (2009). The Submarine Cable fee in Table 1 is a weighted average of the various fee payers in the chart at the end of Table 2.
⁵ The actual digital television regulatory fees to be paid by call sign are identified in Table 4.

Table 2—Regulatory Fees FY 2020

Regulatory fees for the categories shaded in gray are collected by the Commission in advance to cover the term of the license and are submitted at the time the application is filed.

Fee category | Annual regulatory fee (U.S. $s)
PLMRS (per license) (Exclusive Use) (47 CFR part 90) | 25.
Microwave (per license) (47 CFR part 101) | 25.
Marine (Ship) (per station) (47 CFR part 80) | 15.
Marine (Coast) (per license) (47 CFR part 80) | 40.
Rural Radio (47 CFR part 22) (previously listed under the Land Mobile category) | 10.
PLMRS (Shared Use) (per license) (47 CFR part 90) | 10.
Aviation (Aircraft) (per station) (47 CFR part 87) | 10.
Aviation (Ground) (per license) (47 CFR part 87) | 20.
CMRS Mobile/Cellular Services (per unit) (47 CFR parts 20, 22, 24, 27, 80 and 90) | .17.
CMRS Messaging Services (per unit) (47 CFR parts 20, 22, 24 and 90) | .08.
Broadband Radio Service (formerly MMDS/MDS) (per license) (47 CFR part 27) | 560.
Local Multipoint Distribution Service (per call sign) (47 CFR, part 101) | 560.
AM Radio Construction Permits | 620.
FM Radio Construction Permits | 1,075.
AM and FM Broadcast Radio Station Fees | See Table Below.
Digital TV (47 CFR part 73) VHF and UHF Commercial Fee Factor | .007837.
| See Table 4 for fee amounts due, also available at https://www.fcc.gov/licensing-databases/fees/regulatory-fees.
Digital TV Construction Permits | 4,950.
Low Power TV, Class A TV, TV/FM Translators & Boosters (47 CFR part 74) | 315.
CARS (47 CFR part 78) | 1,300.
Cable Television Systems (per subscriber) (47 CFR part 76), Including IPTV | .89.
Direct Broadcast Service (DBS) (per subscriber) (as defined by section 602(13) of the Act) | .72.
Interstate Telecommunication Service Providers (per revenue dollar) | .00321.
Toll Free (per toll free subscriber) (47 CFR section 52.101 (f) of the rules) | .12.
Earth Stations (47 CFR part 25) | 560.
Space Stations (per operational station in geostationary orbit) (47 CFR part 25) also includes DBS Service (per operational station) (47 CFR part 100) | 89,900.
Space Stations (per operational system in non-geostationary orbit) (47 CFR part 25) | 287,350.
International Bearer Circuits—Terrestrial/Satellites (per Gbps circuit) | 41.
Submarine Cable Landing Licenses Fee (per cable system) | See Table Below.

FY 2020 Radio Station Regulatory Fees
Population served | AM class A | AM class B | AM class C | AM class D | FM classes A, B1 & C3 | FM classes B, C, C0, C1 & C2
<=25,000 | $1,000 | $715 | $620 | $680 | $1,075 | $1,250
25,001-75,000 | 1,500 | 1,000 | 930 | 1,000 | 1,625 | 1,875
75,001-150,000 | 2,250 | 1,600 | 1,400 | 1,525 | 2,425 | 2,825
150,001-500,000 | 3,375 | 2,425 | 2,100 | 2,300 | 3,625 | 4,225
500,001-1,200,000 | 5,050 | 3,625 | 3,125 | 3,450 | 5,450 | 6,325
1,200,001-3,000,000 | 7,600 | 5,425 | 4,700 | 5,175 | 8,175 | 9,500
3,000,001-6,000,000 | 11,400 | 8,150 | 7,050 | 7,750 | 12,250 | 14,250
>6,000,000 | 17,100 | 12,225 | 10,600 | 11,625 | 18,375 | 21,375

FY 2020 International Bearer Circuits—Submarine Cable Systems
Submarine cable systems (capacity as of December 31, 2019) | FY 2020 regulatory fees
Less than 30 Gbps | $1,000
30 Gbps or greater, but less than 250 Gbps | 18,450
250 Gbps or greater, but less than 1,000 Gbps | 36,875
1,000 Gbps or greater, but less than 2,000 Gbps | 73,750
2,000 Gbps or greater, but less than 3,500 Gbps | 147,500
3,500 Gbps or greater, but less than 6,500 Gbps | 295,000
6,500 Gbps or greater | 590,000

Table 3—Space Station Satellite Charts for FY 2020 Regulatory Fees

GSO vs. NGSO IBFS Applications (Received and Disposed) 2017-2019
| 2019 | 2018 | 2017
Received:
GSO | 124 | 77 | * 128
NGSO | 33 | 15 | 39
GSO/NGSO split | 79%/21% | 84%/16% | 77%/23%
Disposed:
GSO | 108 | 88 | 122
NGSO | 28 | 29 | 24
GSO/NGSO Split | 79%/21% | 75%/25% | 84%/16%
* Includes 12 withdrawals pending for 3 days or less.

Non-U.S. Licensed Space Stations—Market Access Through Petition for Declaratory Ruling (PDR)
Licensee | Call sign | Satellite common name | Satellite type
DBSD Services Ltd | S2651 | ICO G1 | GSO
Empresa Argentina De Soluciones Satelitales S.A | S2956 | ARSAT-2 | GSO
ES 172 LLC | S3021 | EUTELSAT 172B | GSO
European Telecommunications Satellite Organization | S2595 | Atlantic Bird 1 | GSO
European Telecommunications Satellite Organization | S2596 | Atlantic Bird 2 | GSO
European Telecommunications Satellite Organization | S2702 | Eutelsat II-F2 | GSO
Gamma Acquisition L.L.C | S2633 | TerreStar 1 | GSO
Hispasati, S.A | S2969 | HISPASAT 30W-6 | GSO
Hispasati, S.A | S2476 | HISPASAT-1D et al. | GSO
Horizons Satellite LLC | S2475 | Galaxy 13 | GSO
Horizons-1 Satellite LLC | S2970/S3049 | HORIZONS-1 | GSO
Horizons-3 License LLC | S2947 | Horizons 3e | GSO
Hughes Network Systems, LLC | S2753 | SPACEWAY 4 | GSO
Hughes Network Systems, LLC | S2834 | Jupiter 2/EchoStar 1 | GSO
Inmarsat PLC | S2780 | I2F1 | GSO
Inmarsat PLC | S2783 | Inmarsat 3F4 | GSO
Inmarsat PLC | S2932 | Inmarsat-4 F3 | GSO
Inmarsat PLC | S2949 | Inmarsat-3 F5 | GSO
Intelsat License LLC | S2592/S2868 | Galaxy 23 | GSO
Intelsat North America LLC | S2592 | Intelsat Americas 13 | GSO
Jansky-Barmet Telecommunications Inc | S2793 | AMAZONAS-2 | GSO
New Skies Satellites B.V | S2756 | NSS-9 | GSO
New Skies Satellites B.V | S2870 | SES-6 | GSO
New Skies Satellites B.V | S3048 | NSS-6 | GSO
New Skies Satellites B.V | S2463 | NSS-7 | GSO
New Skies Satellites B.V | S2828 | SES-4 | GSO
New Skies Satellites B.V | S2950 | SES-10 | GSO
O3B Ltd | S2935 | O3B | NGSO
Satelites Mexicanos, S.A. DE C.V | S2695 | SATMEX 6 | GSO
Satelites Mexicanos, S.A. DE C.V | S2926 | E117WB | GSO
Satelites Mexicanos, S.A. DE C.V | S2938 | EUTELSAT WEST 115 B | GSO
Satelites Mexicanos, S.A. DE C.V | S2873 | Satmex 8 et al | GSO
SES Americom, INC | S2676 | AMC 21 | GSO
SES Americom, INC | S3037 | NSS-11 | GSO
SES Americom, INC | S2964 | SES-11 | GSO
SES DTH do Brasil Ltda | S2974 | SES-14 | GSO
SES Satellites (GIBRALTAR) Ltd | S2951 | SES-15 | GSO
Skynet Satellite Corp | S2462 | Telstar 12 | GSO
Space Communications Corp | S2685 | Superbird-B2 | GSO
Space Communications Corp | S2639 | SUPERBIRD-C | GSO
Space Norway AS | S2978 | ASBM | NGSO
Spectrum Five LLC | S2777 | BSSNET119W | GSO
Star One S.A | S2677 | STAR ONE C1 | GSO
Star One S.A | S2678 | STAR ONE C2 | GSO
Star One S.A | S2845 | STAR ONE C3 | GSO
Telesat Brasil Capacidade De Satelites Ltda | S2821 | ESTRELA DO SUL 2 | GSO
Telesat Canada | S2597 | Anik E2 | GSO
Telesat Canada | S2674 | ANIK F1R | GSO
Telesat Canada | S2745 | ANIK F1 | GSO
Telesat Canada | S2703 | ANIK F3 | GSO
Telesat Canada | S2646 | ANIK F2 | GSO
Telesat International Ltd | S2955 | TELSTAR 19 VANTAGE | GSO
Viasat, INC | S2747 | VIASAT-IOM | GSO
Viasat, INC | S2902 | VIASAT-2 | GSO
Viasat, INC | S2952 | VIASAT-79W | GSO
Viasat, INC | S2953 | VIASAT-109W | GSO
WorldVu Satellites Ltd | S2963 | ONEWEB | NGSO

Non-U.S. Space Stations—Market Access Through Earth Stations
ITU name | Common name | Call Ssign | GSO/NGSO
ANIK G1 | ANIK G1 | M090164 | GSO
APSTAR 6C | APSTAR 6C(M161190) | M161190 | GSO
APSTAR 6D | APSTAR 6D(M246190) | M246190 | GSO
Apstar 7 | Apstar 7 | M090165 | GSO
APSTAR VI | APSTAR 6(M292090) | M292090 | GSO
AsiaSat 5 | AsiaSat 5 | M090163 | GSO
AsiaSat 7 | AsiaSat 7 | M174161 | GSO
AsiaSat-9 | AsiaSat-9 | M161191 | GSO
AUSSAT B 152E | OPTUS D2 | M221170 | GSO
CAN-BSS3 and CAN-BSS | ECHOSTAR 23 | SM1987 | GSO
Chinasat 10 | Chinasat 10(M246191) | M246191 | GSO
Ciel Satellite Group | Ciel-2 | E050029 | GSO
ECHOSTAR 23 | ECHOSTAR 23 | SM2975 | GSO
ECHOSTAR 8 (MEX) | ECHOSTAR 8 | NUS1108 | GSO
Eutelsat 10A | Eutelsat 10A (W2A) | M0311 | GSO
Eutelsat 65 West A | Eutelsat 65 West A | E160081 | GSO
Eutelsat 70B | Eutelsat 70B | M090167 | GSO
exactEarth | exactEarth-7 | E160028 | NGSO
JCSAT-5A | JCSAT 5A | M063130 | GSO
JCSAT-2B | JCSAT-2B | M174163 | GSO
QUETZSAT-1(MEX) | QUETZSAT-1 | NUS1101 | GSO
Superbird C2 | Superbird C2 | M334100 | GSO
TELSTAR 18 | TELSTAR 18 | None | GSO
Yamal 300K | Yamal 300K | M174162 | GSO
Yamal 401 | Yamal 401 | M001166 | GSO

Table 4—FY 2020 Full-Service Broadcast Television Stations by Call Sign

Facility Id. No. | Call sign | Service area population | Terrain-Ltd population | FY 2020 Terrain-Ltd. fee amount
3246 | KAAH-TV | 955,391 | 879,906 | $6,896
18285 | KAAL | 589,502 | 568,169 | 4,453
11912 | KAAS-TV | 220,262 | 219,922 | 1,724
56528 | KABB | 2,474,296 | 2,456,689 | 19,253
282 | KABC-TV * | 17,540,791 | 16,957,292 | 132,894
1236 | KACV-TV | 372,627 | 372,330 | 2,918
33261 | KADN-TV | 877,965 | 877,965 | 6,881
8263 | KAEF-TV | 138,085 | 122,808 | 962
2728 | KAET | 4,217,217 | 4,184,386 | 32,793
2767 | KAFT | 1,204,376 | 1,122,928 | 8,800
62442 | KAID | 711,035 | 702,721 | 5,507
4145 | KAII-TV | 188,810 | 165,396 | 1,296
67494 | KAIL | 1,967,744 | 1,948,341 | 15,269
13988 | KAIT | 861,149 | 845,812 | 6,629
40517 | KAJB | 383,886 | 383,195 | 3,003
65522 | KAKE | 803,937 | 799,254 | 6,264
804 | KAKM | 380,240 | 379,105 | 2,971
148 | KAKW-DT | 2,615,956 | 2,531,813 | 19,842
51598 | KALB-TV | 943,307 | 942,043 | 7,383
51241 | KALO | 948,683 | 844,503 | 6,618
40820 | KAMC | 391,526 | 391,502 | 3,068
8523 | KAMR-TV | 366,476 | 366,335 | 2,871
65301 | KAMU-TV | 346,892 | 342,455 | 2,684
2506 | KAPP | 319,797 | 283,944 | 2,225
3658 | KARD | 703,234 | 700,887 | 5,493
23079 | KARE | 3,924,944 | 3,907,483 | 30,623
33440 | KARK-TV | 1,212,038 | 1,196,196 | 9,375
37005 | KARZ-TV | 1,066,386 | 1,050,270 | 8,231
32311 | KASA-TV | 1,161,789 | 1,119,108 | 8,770
41212 | KASN | 1,175,627 | 1,159,721 | 9,089
7143 | KASW | 4,174,437 | 4,160,497 | 32,606
55049 | KASY-TV | 1,144,839 | 1,099,825 | 8,619
33471 | KATC | 1,348,897 | 1,348,897 | 10,571
13813 | KATN | 97,466 | 97,128 | 761
21649 | KATU | 2,978,043 | 2,845,632 | 22,301
33543 | KATV | 1,257,777 | 1,234,933 | 9,678
50182 | KAUT-TV | 1,637,333 | 1,636,330 | 12,824
6864 | KAUZ-TV | 381,671 | 379,435 | 2,974
73101 | KAVU-TV | 320,484 | 320,363 | 2,511
49579 | KAWB | 186,919 | 186,845 | 1,464
49578 | KAWE | 136,033 | 133,937 | 1,050
58684 | KAYU-TV | 809,464 | 750,766 | 5,884
29234 | KAZA-TV | 14,973,535 | 13,810,130 | 108,230
17433 | KAZD | 6,747,915 | 6,744,517 | 52,857
1151 | KAZQ | 1,097,010 | 1,084,327 | 8,498
35811 | KAZT-TV | 436,925 | 359,273 | 2,816
4148 | KBAK-TV | 1,510,400 | 1,263,910 | 9,905
16940 | KBCA | 479,260 | 479,219 | 3,756
53586 | KBCB | 1,256,193 | 1,223,883 | 9,592
69619 | KBCW | 8,020,424 | 6,962,363 | 54,564
22685 | KBDI-TV * | 4,042,177 | 3,683,394 | 28,867
56384 | KBEH * | 17,736,497 | 17,695,306 | 138,678
65395 | KBFD-DT | 953,207 | 834,341 | 6,539
169030 | KBGS-TV | 159,269 | 156,802 | 1,229
61068 | KBHE-TV | 140,860 | 133,082 | 1,043
48556 | KBIM-TV | 205,701 | 205,647 | 1,612
29108 | KBIN-TV | 912,921 | 911,725 | 7,145
33658 | KBJR-TV | 275,585 | 271,298 | 2,126
83306 | KBLN-TV | 297,384 | 134,927 | 1,057
63768 | KBLR | 1,964,979 | 1,915,859 | 15,015
53324 | KBME-TV | 123,571 | 123,485 | 968
10150 | KBMT | 743,009 | 742,369 | 5,818
22121 | KBMY | 119,993 | 119,908 | 940
49760 | KBOI-TV * | 715,191 | 708,374 | 5,552
55370 | KBRR | 149,869 | 149,868 | 1,175
66414 | KBSD-DT | 155,012 | 154,891 | 1,214
66415 | KBSH-DT | 102,781 | 100,433 | 787
19593 | KBSI | 752,366 | 751,025 | 5,886
66416 | KBSL-DT | 49,814 | 48,483 | 380
4939 | KBSV | 1,352,166 | 1,262,708 | 9,896
62469 | KBTC-TV | 3,697,981 | 3,621,965 | 28,385
61214 | KBTV-TV | 734,008 | 734,008 | 5,752
6669 | KBTX-TV | 4,048,516 | 4,047,275 | 31,718
35909 | KBVO | 1,498,015 | 1,312,360 | 10,285
58618 | KBVU | 135,249 | 120,827 | 947
6823 | KBYU-TV | 2,389,548 | 2,209,060 | 17,312
33756 | KBZK | 116,485 | 106,020 | 831
21422 | KCAL-TV * | 17,499,483 | 16,889,157 | 132,360
11265 | KCAU-TV * | 714,315 | 706,224 | 5,535
14867 | KCBA | 3,094,778 | 2,278,552 | 17,857
27507 | KCBD | 414,804 | 414,091 | 3,245
9628 | KCBS-TV | 17,853,152 | 16,656,778 | 130,539
49750 | KCBY-TV | 89,156 | 73,211 | 574
33710 | KCCI | 1,102,130 | 1,095,326 | 8,584
9640 | KCCW-TV | 284,280 | 276,935 | 2,170
63158 | KCDO-TV | 2,798,103 | 2,650,225 | 20,770
62424 | KCDT | 694,584 | 638,366 | 5,003
83913 | KCEB | 1,163,228 | 1,159,665 | 9,088
57219 | KCEC | 3,874,159 | 3,654,445 | 28,640
10245 | KCEN-TV | 1,795,767 | 1,757,018 | 13,770
13058 | KCET | 16,875,019 | 15,402,588 | 120,710
18079 | KCFW-TV | 148,162 | 129,122 | 1,012
132606 | KCGE-DT | 123,930 | 123,930 | 971
60793 | KCHF | 1,118,671 | 1,085,205 | 8,505
33722 | KCIT | 382,477 | 381,818 | 2,992
62468 | KCKA | 953,680 | 804,362 | 6,304
41969 | KCLO-TV | 138,413 | 132,157 | 1,036
47903 | KCNC-TV | 3,794,400 | 3,541,089 | 27,752
71586 | KCNS | 8,048,427 | 7,069,903 | 55,407
33742 | KCOP-TV * | 17,386,133 | 16,647,708 | 130,468
19117 | KCOS | 1,014,396 | 1,014,205 | 7,948
63165 | KCOY-TV | 664,655 | 459,468 | 3,601
86208 | KCPM | 90,266 | 90,266 | 707
33894 | KCPQ | 4,439,875 | 4,311,994 | 33,793
53843 | KCPT | 2,507,879 | 2,506,224 | 19,641
33875 | KCRA-TV | 10,612,483 | 6,500,774 | 50,947
9719 | KCRG-TV * | 1,136.762 | 1,107,130 | 8,677
60728 | KCSD-TV | 273,553 | 273,447 | 2,143
59494 | KCSG | 174,814 | 164,765 | 1,291
33749 | KCTS-TV | 4,177,824 | 4,115,603 | 32,254
41230 | KCTV | 2,547,456 | 2,545,645 | 19,950
58605 | KCVU | 630,068 | 616,068 | 4,828
10036 | KCWC-DT | 44,216 | 39,439 | 309
64444 | KCWE | 2,460,172 | 2,458,913 | 19,271
51502 | KCWI-TV | 1,043,811 | 1,042,642 | 8,171
42008 | KCWO-TV | 50,707 | 50,685 | 397
166511 | KCWV | 207,398 | 207,370 | 1,625
24316 | KCWX * | 3,961,268 | 3,954,787 | 30,994
68713 | KCWY-DT | 79,948 | 79,414 | 622
22201 | KDAF | 6,648,507 | 6,645,226 | 52,079
33764 | KDBC-TV | 1,015,564 | 1,015,162 | 7,956
79258 | KDCK | 43,088 | 43,067 | 338
166332 | KDCU-DT | 796,251 | 795,504 | 6,234
38375 | KDEN-TV | 3,376,799 | 3,351,182 | 26,263
17037 | KDFI | 6,684,439 | 6,682,487 | 52,371
33770 | KDFW | 6,658,976 | 6,656,502 | 52,167
29102 | KDIN-TV | 1,088,376 | 1,083,845 | 8,494
25454 | KDKA-TV | 3,611,796 | 3,450,690 | 27,043
60740 | KDKF | 71,413 | 64,567 | 506
4691 | KDLH | 263,422 | 260,394 | 2,041
41975 | KDLO-TV | 208,354 | 208,118 | 1,631
55379 | KDLT-TV | 639,284 | 628,281 | 4,924
55375 | KDLV-TV | 96,873 | 96,620 | 757
25221 | KDMD | 374,951 | 372,727 | 2,921
78915 | KDMI | 1,141,990 | 1,140,939 | 8,942
56524 | KDNL-TV | 2,987,219 | 2,982,311 | 23,372
24518 | KDOC-TV * | 17,503,793 | 16,701,233 | 130,888
1005 | KDOR-TV | 1,112,060 | 1,108,556 | 8,688
60736 | KDRV | 519,706 | 440,002 | 3,448
61064 | KDSD-TV | 64,314 | 59,635 | 467
53329 | KDSE | 42,896 | 41,432 | 325
56527 | KDSM-TV | 1,096,220 | 1,095,478 | 8,585
49326 | KDTN | 6,602,327 | 6,600,186 | 51,726
83491 | KDTP | 26,564 | 24,469 | 192
33778 | KDTV-DT | 7,921,124 | 6,576,672 | 51,541
67910 | KDTX-TV | 6,680,738 | 6,679,424 | 52,347
126 | KDVR | 3,430,717 | 3,394,796 | 26,605
18084 | KECI-TV * | 211,745 | 193,803 | 1,519
51208 | KECY-TV | 399,372 | 394,379 | 3,091
58408 | KEDT | 513,683 | 513,683 | 4,026
55435 | KEET | 177,313 | 159,960 | 1,254
41983 | KELO-TV | 705,364 | 646,126 | 5,064
34440 | KEMO-TV | 8,048,427 | 7,069,903 | 55,407
2777 | KEMV | 619,889 | 559,135 | 4,382
26304 | KENS | 2,544,094 | 2,529,382 | 19,823
63845 | KENV-DT | 47,220 | 40,677 | 319
18338 | KENW | 87,017 | 87,017 | 682
50591 | KEPB-TV | 576,964 | 523,655 | 4,104
56029 | KEPR-TV | 453,259 | 433,260 | 3,395
49324 | KERA-TV | 6,681,083 | 6,677,852 | 52,334
40878 | KERO-TV | 1,285,357 | 1,164,979 | 9,130
61067 | KESD-TV | 166,018 | 159,195 | 1,248
25577 | KESQ-TV | 1,334,172 | 572,057 | 4,483
50205 | KETA-TV | 1,702,441 | 1,688,227 | 13,231
62182 | KETC | 2,913,924 | 2,911,313 | 22,816
37101 | KETD | 3,098,889 | 3,058,327 | 23,968
2768 | KETG | 426,883 | 409,511 | 3,209
12895 | KETH-TV | 6,088,821 | 6,088,677 | 47,717
55643 | KETK-TV | 1,031,567 | 1,030,122 | 8,073
2770 | KETS | 1,185,111 | 1,166,796 | 9,144
53903 | KETV | 1,355,714 | 1,350,740 | 10,586
92872 | KETZ | 526,890 | 523,877 | 4,106
68853 | KEYC-TV | 544,900 | 531,079 | 4,162
33691 | KEYE-TV | 2,732,257 | 2,652,529 | 20,788
60637 | KEYT-TV | 1,419,564 | 1,239,577 | 9,715
83715 | KEYU | 339,348 | 339,302 | 2,659
34406 | KEZI | 1,113,171 | 1,065,880 | 8,353
34412 | KFBB-TV | 93,519 | 91,964 | 721
125 | KFCT | 795,114 | 788,747 | 6,181
51466 | KFDA-TV | 385,064 | 383,977 | 3,009
22589 | KFDM | 732,665 | 732,588 | 5,741
65370 | KFDX-TV | 381,703 | 381,318 | 2,988
49264 | KFFV | 3,783,380 | 3,717,323 | 29,133
12729 | KFFX-TV | 409,952 | 403,692 | 3,164
83992 | KFJX | 515,708 | 505,647 | 3,963
42122 | KFMB-TV | 3,947,735 | 3,699,981 | 28,997
53321 | KFME | 393,045 | 392,472 | 3,076
74256 | KFNB | 80,382 | 79,842 | 626
21613 | KFNE | 54,988 | 54,420 | 426
21612 | KFNR | 10,988 | 10,965 | 86
66222 | KFOR-TV | 1,616,459 | 1,615,614 | 12,662
33716 | KFOX-TV | 1,023,999 | 1,018,549 | 7,982
41517 | KFPH-DT | 347,579 | 282,838 | 2,217
81509 | KFPX-TV | 963,969 | 963,846 | 7,554
31597 | KFQX | 186,473 | 163,637 | 1,282
59013 | KFRE-TV | 1,721,275 | 1,705,484 | 13,366
51429 | KFSF-DT | 7,348,828 | 6,528,430 | 51,163
66469 | KFSM-TV | 906,728 | 884,919 | 6,935
8620 | KFSN-TV | 1,836,607 | 1,819,585 | 14,260
29560 | KFTA-TV | 818,859 | 809,173 | 6,341
83714 | KFTC | 61,990 | 61,953 | 486
60537 | KFTH-DT | 6,080,688 | 6,080,373 | 47,652
60549 | KFTR-DT | 17,560,679 | 16,305,726 | 127,788
61335 | KFTS | 74,936 | 65,126 | 510
81441 | KFTU-DT | 113,876 | 109,731 | 860
34439 | KFTV-DT | 1,807,731 | 1,793,418 | 14,055
36917 | KFVE | 953,895 | 851,585 | 6,674
592 | KFVS-TV | 810,574 | 782,713 | 6,134
29015 | KFWD | 6,610,836 | 6,598,496 | 51,712
35336 | KFXA | 875,538 | 874,070 | 6,850
17625 | KFXB-TV | 373,280 | 368,466 | 2,888
70917 | KFXK-TV | 934,043 | 931,791 | 7,302
84453 | KFXL-TV | 361,632 | 361,097 | 2,830
41427 | KFYR-TV | 130,881 | 128,301 | 1,005
25685 | KGAN | 1,083,213 | 1,057,597 | 8,288
34457 | KGBT-TV | 1,230,798 | 1,230,791 | 9,646
52593 | KGBY | 270,089 | 218,544 | 1,713
7841 | KGCW | 888,054 | 886,499 | 6,947
24485 | KGEB | 1,186,225 | 1,150,201 | 9,014
34459 | KGET-TV | 917,927 | 874,332 | 6,852
53320 | KGFE | 114,564 | 114,564 | 898
7894 | KGIN | 230,535 | 228,338 | 1,789
83945 | KGLA-DT | 1,645,641 | 1,645,641 | 12,897
34445 | KGMB | 953,398 | 851,088 | 6,670
23302 | KGMC | 1,824,786 | 1,803,796 | 14,136
36914 | KGMD-TV | 94,323 | 93,879 | 736
36920 | KGMV | 193,564 | 162,230 | 1,271
10061 | KGNS-TV | 267,236 | 259,548 | 2,034
34470 | KGO-TV | 8,283,429 | 7,623,657 | 59,747
56034 | KGPE | 1,699,131 | 1,682,082 | 13,182
81694 | KGPX-TV | 685,626 | 624,955 | 4,898
25511 | KGTF | 161,885 | 160,568 | 1,258
40876 | KGTV | 3,960,667 | 3,682,219 | 28,858
36918 | KGUN-TV * | 1,398,527 | 1,212,484 | 9,502
34874 | KGW | 3,058,216 | 2,881,387 | 22,581
63177 | KGWC-TV | 80,475 | 80,009 | 627
63162 | KGWL-TV | 38,125 | 38,028 | 298
63166 | KGWN-TV | 469,467 | 440,388 | 3,451
63170 | KGWR-TV | 51,315 | 50,957 | 399
4146 | KHAW-TV | 95,204 | 94,851 | 743
34846 | KHBC-TV | 74,884 | 74,884 | 587
60353 | KHBS | 631,770 | 608,052 | 4,765
27300 | KHCE-TV | 2,353,883 | 2,348,391 | 18,404
26431 | KHET | 959,060 | 944,568 | 7,403
21160 | KHGI-TV | 233,973 | 229,173 | 1,796
29085 | KHIN | 1,041,244 | 1,039,383 | 8,146
17688 | KHME | 181,345 | 179,706 | 1,408
47670 | KHMT | 175,601 | 170,957 | 1,340
47987 | KHNE-TV | 203,931 | 202,944 | 1,590
34867 | KHNL | 953,398 | 851,088 | 6,670
60354 | KHOG-TV | 765,360 | 702,984 | 5,509
4144 | KHON-TV | 953,207 | 886,431 | 6,947
34529 | KHOU * | 6,083,336 | 6,081,785 | 47,663
4690 | KHQA-TV | 318,469 | 316,134 | 2,478
34537 | KHQ-TV | 822,371 | 774,821 | 6,072
30601 | KHRR | 1,227,847 | 1,166,890 | 9,145
34348 | KHSD-TV | 188,735 | 185,202 | 1,451
24508 | KHSL-TV | 625,904 | 608,850 | 4,772
69677 | KHSV * | 2,059,794 | 2,020,045 | 15,831
64544 | KHVO | 94,226 | 93,657 | 734
23394 | KIAH | 6,099,694 | 6,099,297 | 47,800
34564 | KICU-TV | 8,233,041 | 7,174,316 | 56,225
56028 | KIDK | 305,509 | 302,535 | 2,371
58560 | KIDY | 116,614 | 116,596 | 914
53382 | KIEM-TV | 174,390 | 160,801 | 1,260
66258 | KIFI-TV * | 324,422 | 320,118 | 2,509
10188 | KIII | 569,864 | 566,796 | 4,442
29095 | KIIN | 1,365,215 | 1,335,707 | 10,468
34527 | KIKU | 953,896 | 850,963 | 6,669
63865 | KILM | 17,256,205 | 15,804,489 | 123,860
56033 | KIMA-TV | 308,604 | 260,593 | 2,042
66402 | KIMT | 654,083 | 643,384 | 5,042
67089 | KINC | 2,002,066 | 1,920,903 | 15,054
34847 | KING-TV | 4,063,674 | 4,018,832 | 31,496
51708 | KINT-TV | 1,015,582 | 1,015,274 | 7,957
26249 | KION-TV | 2,400,317 | 855,808 | 6,707
62427 | KIPT | 171,405 | 170,455 | 1,336
66781 | KIRO-TV | 4,058,846 | 4,027,262 | 31,562
62430 | KISU-TV | 311,827 | 307,651 | 2,411
12896 | KITU-TV | 712,362 | 712,362 | 5,583
64548 | KITV | 953,207 | 839,906 | 6,582
59255 | KIVI-TV | 710,819 | 702,619 | 5,506
47285 | KIXE-TV * | 467,518 | 428,118 | 3,355
13792 | KJJC-TV | 82,749 | 81,865 | 642
14000 | KJLA | 17,929,100 | 16,794,896 | 131,622
20015 | KJNP-TV | 98,403 | 98,097 | 769
53315 | KJRE | 16,187 | 16,170 | 127
59439 | KJRH-TV | 1,416,108 | 1,397,311 | 10,951
55364 | KJRR | 45,515 | 44,098 | 346
42640 | KJRW | 137,375 | 126,743 | 993
7675 | KJTL | 379,594 | 379,263 | 2,972
55031 | KJTV-TV | 406,283 | 406,260 | 3,184
13814 | KJUD | 31,229 | 30,106 | 236
36607 | KJZZ-TV | 2,388,054 | 2,204,525 | 17,277
83180 | KKAI | 955,203 | 941,214 | 7,376
58267 | KKAP | 957,786 | 923,172 | 7,235
24766 | KKCO | 206,018 | 172,628 | 1,353
35097 | KKJB | 629,939 | 624,784 | 4,896
22644 | KKPX-TV | 7,902,064 | 6,849,907 | 53,683
35037 | KKTV | 2,795,275 | 2,293,502 | 17,974
35042 | KLAS-TV | 2,094,297 | 1,940,030 | 15,204
52907 | KLAX-TV | 367,212 | 366,839 | 2,875
3660 | KLBK-TV | 387,783 | 387,743 | 3,039
65523 | KLBY | 34,288 | 34,279 | 269
38430 | KLCS | 16,875,019 | 15,402,588 | 120,710
77719 | KLCW-TV | 381,889 | 381,816 | 2,992
51479 | KLDO-TV | 250,832 | 250,832 | 1,966
37105 | KLEI | 175,045 | 138,087 | 1,082
56032 | KLEW-TV | 164,908 | 148,256 | 1,162
35059 | KLFY-TV | 1,355,890 | 1,355,409 | 10,622
54011 | KLJB | 960,055 | 947,716 | 7,427
11264 | KLKN | 932,757 | 895,101 | 7,015
47975 | KLNE-TV | 120,338 | 120,277 | 943
38590 | KLPA-TV | 414,699 | 414,447 | 3,248
38588 | KLPB-TV | 749,053 | 749,053 | 5,870
749 | KLRN | 2,374,472 | 2,353,440 | 18,444
11951 | KLRT-TV | 1,171,678 | 1,152,541 | 9,032
8564 | KLRU | 2,614,658 | 2,575,518 | 20,184
8322 | KLSR-TV | 564,415 | 508,157 | 3,982
31114 | KLST | 199,067 | 169,551 | 1,329
24436 | KLTJ | 6,034,131 | 6,033,867 | 47,287
38587 | KLTL-TV | 423,574 | 423,574 | 3,320
38589 | KLTM-TV | 694,280 | 688,915 | 5,399
38591 | KLTS-TV | 883,661 | 882,589 | 6,917
68540 | KLTV | 1,069,690 | 1,051,361 | 8,240
12913 | KLUJ-TV | 1,195,751 | 1,195,751 | 9,371
57220 | KLUZ-TV | 1,079,718 | 1,019,302 | 7,988
11683 | KLVX | 2,044,150 | 1,936,083 | 15,173
82476 | KLWB | 1,065,748 | 1,065,748 | 8,352
40250 | KLWY | 541,043 | 538,231 | 4,218
64551 | KMAU | 213,060 | 188,953 | 1,481
51499 | KMAX-TV | 10,644,556 | 6,974,200 | 54,657
65686 | KMBC-TV | 2,507,895 | 2,506,661 | 19,645
56079 | KMBH | 1,225,732 | 1,225,732 | 9,606
35183 | KMCB | 69,357 | 66,203 | 519
41237 | KMCC | 2,064,592 | 2,010,262 | 15,754
42636 | KMCI-TV | 2,429,392 | 2,428,626 | 19,033
38584 | KMCT-TV | 267,004 | 266,880 | 2,092
22127 | KMCY | 71,797 | 71,793 | 563
162016 | KMDE | 35,409 | 35,401 | 277
26428 | KMEB | 221,810 | 203,470 | 1,595
39665 | KMEG | 708,748 | 704,130 | 5,518
35123 | KMEX-DT | 17,628,354 | 16,318,720 | 127,890
40875 | KMGH-TV | 3,815,253 | 3,574,365 | 28,012
35131 | KMID | 383,449 | 383,439 | 3,005
16749 | KMIR-TV | 2,760,914 | 730,764 | 5,727
63164 | KMIZ | 550,860 | 548,402 | 4,298
53541 | KMLM-DT | 293,290 | 293,290 | 2,299
52046 | KMLU | 711,951 | 708,107 | 5,549
47981 | KMNE-TV | 47,232 | 44,189 | 346
24753 | KMOH-TV | 199,885 | 184,283 | 1,444
4326 | KMOS-TV | 804,745 | 803,129 | 6,294
41425 | KMOT | 81,517 | 79,504 | 623
70034 | KMOV | 3,035,077 | 3,029,405 | 23,741
51488 | KMPH-TV | 1,725,397 | 1,697,871 | 13,306
73701 | KMPX | 6,678,829 | 6,674,706 | 52,310
44052 | KMSB | 1,321,614 | 1,039,442 | 8,146
68883 | KMSP-TV | 3,832,040 | 3,805,141 | 29,821
12525 | KMSS-TV | 1,068,120 | 1,066,388 | 8,357
43095 | KMTP-TV | 5,097,701 | 4,378,276 | 34,313
35189 | KMTR | 589,948 | 520,666 | 4,080
35190 | KMTV-TV | 1,346,549 | 1,344,796 | 10,539
77063 | KMTW | 761,521 | 761,516 | 5,968
35200 | KMVT | 184,647 | 176,351 | 1,382
32958 | KMVU-DT | 308,150 | 231,506 | 1,814
86534 | KMYA-DT | 200,764 | 200,719 | 1,573
51518 | KMYS | 2,273,888 | 2,267,913 | 17,774
54420 | KMYT-TV | 1,314,197 | 1,302,378 | 10,207
35822 | KMYU | 133,563 | 130,198 | 1,020
993 | KNAT-TV | 1,157,630 | 1,124,619 | 8,814
24749 | KNAZ-TV | 332,321 | 227,658 | 1,784
47906 | KNBC | 17,859,647 | 16,555,232 | 129,743
81464 | KNBN | 145,493 | 136,995 | 1,074
9754 | KNCT | 2,247,724 | 2,233,513 | 17,504
82611 | KNDB | 118,154 | 118,122 | 926
82615 | KNDM | 72,216 | 72,209 | 566
12395 | KNDO | 314,875 | 270,892 | 2,123
12427 | KNDU | 475,612 | 462,556 | 3,625
17683 | KNEP | 101,389 | 95,890 | 751
48003 | KNHL | 277,777 | 277,308 | 2,173
125710 | KNIC-DT | 2,398,296 | 2,383,294 | 18,678
59363 | KNIN-TV * | 708,289 | 703,838 | 5,516
48525 | KNLC | 2,944,530 | 2,939,956 | 23,040
48521 | KNLJ | 655,000 | 642,705 | 5,037
84215 | KNMD-TV | 1,120,286 | 1,100,869 | 8,628
55528 | KNME-TV | 1,149,036 | 1,103,695 | 8,650
47707 | KNMT | 2,887,142 | 2,794,995 | 21,904
48975 | KNOE-TV | 733,097 | 729,703 | 5,719
49273 | KNOP-TV | 87,904 | 85,423 | 669
10228 | KNPB | 604,614 | 462,732 | 3,626
55362 | KNRR | 25,957 | 25,931 | 203
35277 | KNSD | 3,861,660 | 3,618,321 | 28,357
19191 | KNSN-TV | 611,981 | 459,485 | 3,601
58608 | KNSO * | 1,976,317 | 1,931,825 | 15,140
35280 | KNTV | 8,022,662 | 7,168,995 | 56,183
144 | KNVA | 2,550,225 | 2,529,184 | 19,821
33745 | KNVN | 495,403 | 464,031 | 3,637
69692 | KNVO | 1,241,165 | 1,241,165 | 9,727
29557 | KNWA-TV | 815,678 | 796,488 | 6,242
16950 | KNXT | 2,166,688 | 2,116,003 | 16,583
59440 | KNXV-TV | 4,183,943 | 4,173,022 | 32,704
59014 | KOAA-TV | 1,391,946 | 1,087,809 | 8,525
50588 | KOAB-TV | 207,070 | 203,371 | 1,594
50590 | KOAC-TV | 1,957,282 | 1,543,401 | 12,096
58552 | KOAM-TV | 595,307 | 584,921 | 4,584
53928 | KOAT-TV * | 1,132,372 | 1,105,116 | 8,661
35313 | KOB | 1,152,841 | 1,113,162 | 8,724
35321 | KOBF | 201,911 | 166,177 | 1,302
8260 | KOBI * | 562,463 | 519,063 | 4,068
62272 | KOBR | 211,709 | 211,551 | 1,658
50170 | KOCB | 1,629,783 | 1,629,152 | 12,768
4328 | KOCE-TV | 17,447,903 | 16,331,792 | 127,992
84225 | KOCM | 1,434,325 | 1,433,605 | 11,235
12508 | KOCO-TV | 1,716,569 | 1,708,085 | 13,386
83181 | KOCW | 83,807 | 83,789 | 657
18283 | KODE-TV | 740,156 | 731,512 | 5,733
66195 | KOED-TV * | 1,497,297 | 1,459,833 | 11,441
50198 | KOET | 658,606 | 637,640 | 4,997
51189 | KOFY-TV | 5,097,701 | 4,378,276 | 34,313
34859 | KOGG | 190,829 | 161,310 | 1,264
166534 | KOHD | 201,310 | 197,662 | 1,549
35380 | KOIN | 2,983,136 | 2,851,968 | 22,351
35388 | KOKH-TV | 1,627,116 | 1,625,246 | 12,737
11910 | KOKI-TV | 1,366,220 | 1,352,227 | 10,597
48663 | KOLD-TV | 1,216,228 | 887,754 | 6,957
7890 | KOLN | 1,225,400 | 1,190,178 | 9,327
63331 | KOLO-TV | 959,178 | 826,985 | 6,481
28496 | KOLR | 1,076,144 | 1,038,613 | 8,140
21656 | KOMO-TV | 4,123,984 | 4,078,485 | 31,963
65583 | KOMU-TV | 551,658 | 542,544 | 4,252
35396 | KONG | 4,006,008 | 3,985,271 | 31,233
60675 | KOOD | 113,416 | 113,285 | 888
50589 | KOPB-TV | 3,059,231 | 2,875,815 | 22,538
2566 | KOPX-TV | 1,501,110 | 1,500,883 | 11,762
64877 | KORO | 560,983 | 560,983 | 4,396
6865 | KOSA-TV | 340,978 | 338,070 | 2,649
34347 | KOTA-TV | 174,876 | 152,861 | 1,198
8284 | KOTI | 298,175 | 97,132 | 761
35434 | KOTV-DT | 1,417,675 | 1,403,021 | 10,995
56550 | KOVR | 10,759,811 | 7,100,710 | 55,648
51101 | KOZJ | 429,982 | 427,991 | 3,354
51102 | KOZK | 836,532 | 825,077 | 6,466
3659 | KOZL-TV | 992,495 | 963,281 | 7,549
35455 | KPAX-TV | 206,895 | 193,201 | 1,514
67868 | KPAZ-TV | 4,190,080 | 4,176,323 | 32,730
6124 | KPBS | 3,584,237 | 3,463,189 | 27,141
50044 | KPBT-TV | 340,080 | 340,080 | 2,665
77452 | KPCB-DT | 30,861 | 30,835 | 242
35460 | KPDX | 2,970,703 | 2,848,423 | 22,323
12524 | KPEJ-TV | 368,212 | 368,208 | 2,886
41223 | KPHO-TV | 4,195,073 | 4,175,139 | 32,721
61551 | KPIC | 156,687 | 105,807 | 829
86205 | KPIF | 255,766 | 250,517 | 1,963
25452 | KPIX-TV | 8,340,753 | 7,480,594 | 58,625
58912 | KPJK | 7,672,473 | 6,652,674 | 52,137
166510 | KPJR-TV | 3,402,088 | 3,372,831 | 26,433
13994 | KPLC | 1,406,085 | 1,403,853 | 11,002
41964 | KPLO-TV | 55,827 | 52,765 | 414
35417 | KPLR-TV | 2,968,619 | 2,965,673 | 23,242
12144 | KPMR | 1,731,370 | 1,473,251 | 11,546
47973 | KPNE-TV | 92,675 | 89,021 | 698
35486 | KPNX | 4,215,834 | 4,184,428 | 32,793
77512 | KPNZ | 2,394,311 | 2,208,707 | 17,310
73998 | KPOB-TV | 144,525 | 143,656 | 1,126
26655 | KPPX-TV | 4,186,998 | 4,171,450 | 32,692
53117 | KPRC-TV | 6,099,422 | 6,099,076 | 47,798
48660 | KPRY-TV | 42,521 | 42,426 | 332
61071 | KPSD-TV | 19,886 | 18,799 | 147
53544 | KPTB-DT | 322,780 | 320,646 | 2,513
81445 | KPTF-DT | 84,512 | 84,512 | 662
77451 | KPTH | 660,556 | 655,373 | 5,136
51491 | KPTM | 1,414,998 | 1,414,014 | 11,082
33345 | KPTS | 832,000 | 827,866 | 6,488
50633 | KPTV | 2,998,460 | 2,847,263 | 22,314
82575 | KPTW | 80,374 | 80,012 | 627
1270 | KPVI-DT | 271,379 | 264,204 | 2,071
58835 | KPXB-TV | 6,062,472 | 6,062,271 | 47,510
68695 | KPXC-TV | 3,362,518 | 3,341,951 | 26,191
68834 | KPXD-TV | 6,555,157 | 6,553,373 | 51,359
33337 | KPXE-TV | 2,437,178 | 2,436,024 | 19,091
5801 | KPXG-TV | 3,026,219 | 2,882,598 | 22,591
81507 | KPXJ | 1,138,632 | 1,135,626 | 8,900
61173 | KPXL-TV | 2,257,007 | 2,243,520 | 17,582
35907 | KPXM-TV | 3,507,312 | 3,506,503 | 27,480
58978 | KPXN-TV | 17,256,205 | 15,804,489 | 123,860
77483 | KPXO-TV | 953,329 | 913,341 | 7,158
21156 | KPXR-TV | 828,915 | 821,250 | 6,436
10242 | KQCA | 9,931,378 | 5,931,341 | 46,484
41430 | KQCD-TV | 35,623 | 33,415 | 262
18287 | KQCK | 3,220,160 | 3,162,711 | 24,786
78322 | KQCW-DT | 1,128,198 | 1,123,324 | 8,803
35525 | KQDS-TV | 305,747 | 302,246 | 2,369
35500 | KQED | 8,195,398 | 7,283,828 | 57,083
35663 | KQEH | 8,195,398 | 7,283,828 | 57,083
8214 | KQET | 2,981,040 | 2,076,157 | 16,271
5471 | KQIN | 596,371 | 596,277 | 4,673
17686 | KQME | 188,783 | 184,719 | 1,448
61063 | KQSD-TV | 32,526 | 31,328 | 246
8378 | KQSL * | 196,316 | 133,564 | 1,047
20427 | KQTV | 1,494,987 | 1,401,160 | 10,981
78921 | KQUP | 697,016 | 551,824 | 4,325
306 | KRBC-TV | 229,395 | 229,277 | 1,797
166319 | KRBK | 983,888 | 966,187 | 7,572
22161 | KRCA * | 17,540,791 | 16,957,292 | 132,894
57945 | KRCB | 5,320,127 | 4,552,911 | 35,681
41110 | KRCG | 684,989 | 662,418 | 5,191
8291 | KRCR-TV * | 423,000 | 402,594 | 3,155
10192 | KRCW-TV | 2,966,577 | 2,842,523 | 22,277
49134 | KRDK-TV | 349,941 | 349,915 | 2,742
52579 | KRDO-TV | 2,622,603 | 2,272,383 | 17,809
70578 | KREG-TV | 149,306 | 95,141 | 746
34868 | KREM | 817,619 | 752,113 | 5,894
51493 | KREN-TV | 810,039 | 681,212 | 5,339
70596 | KREX-TV | 145,700 | 145,606 | 1,141
70579 | KREY-TV | 74,963 | 65,700 | 515
48589 | KREZ-TV | 148,079 | 105,121 | 824
43328 | KRGV-TV | 1,247,057 | 1,247,029 | 9,773
82698 | KRII | 133,840 | 132,912 | 1,042
29114 | KRIN | 949,313 | 923,735 | 7,239
25559 | KRIS-TV | 561,825 | 561,718 | 4,402
22204 | KRIV | 6,078,936 | 6,078,846 | 47,640
14040 | KRMA-TV | 3,722,512 | 3,564,949 | 27,939
14042 | KRMJ | 174,094 | 159,511 | 1,250
20476 | KRMT | 2,956,144 | 2,864,236 | 22,447
84224 | KRMU | 85,274 | 72,499 | 568
20373 | KRMZ | 36,293 | 33,620 | 263
47971 | KRNE-TV | 47,473 | 38,273 | 300
60307 | KRNV-DT | 981,687 | 825,465 | 6,469
65526 | KRON-TV | 8,050,508 | 7,087,419 | 55,544
53539 | KRPV-DT | 65,943 | 65,943 | 517
48575 | KRQE * | 1,135,461 | 1,105,093 | 8,661
57431 | KRSU-TV | 1,000,289 | 998,310 | 7,824
82613 | KRTN-TV | 96,062 | 74,452 | 583
35567 | KRTV | 92,687 | 90,846 | 712
84157 | KRWB-TV | 111,538 | 110,979 | 870
35585 | KRWF | 85,596 | 85,596 | 671
55516 | KRWG-TV | 894,492 | 661,703 | 5,186
48360 | KRXI-TV | 725,391 | 548,865 | 4,301
307 | KSAN-TV | 135,063 | 135,051 | 1,058
11911 | KSAS-TV | 752,513 | 752,504 | 5,897
53118 | KSAT-TV | 2,530,706 | 2,495,317 | 19,556
35584 | KSAX | 365,209 | 365,209 | 2,862
35587 | KSAZ-TV * | 4,203,126 | 4,178,448 | 32,746
38214 | KSBI | 1,577,231 | 1,575,865 | 12,350
19653 | KSBW | 5,083,461 | 4,429,165 | 34,711
19654 | KSBY | 535,029 | 495,562 | 3,884
82910 | KSCC | 502,915 | 502,915 | 3,941
10202 | KSCE | 1,015,148 | 1,010,581 | 7,920
35608 | KSCI | 17,447,903 | 16,331,792 | 127,992
72348 | KSCW-DT | 915,691 | 910,511 | 7,136
46981 | KSDK | 2,986,764 | 2,979,035 | 23,347
35594 | KSEE | 1,749,448 | 1,732,516 | 13,578
48658 | KSFY-TV | 670,536 | 607,844 | 4,764
17680 | KSGW-TV | 62,178 | 57,629 | 452
59444 | KSHB-TV | 2,432,205 | 2,431,273 | 19,054
73706 | KSHV-TV | 943,947 | 942,978 | 7,390
29096 | KSIN-TV | 340,143 | 338,811 | 2,655
664 | KSIX-TV | 82,902 | 73,553 | 576
35606 | KSKN | 731,818 | 643,590 | 5,044
70482 | KSLA | 1,009,108 | 1,008,281 | 7,902
6359 | KSL-TV | 2,390,742 | 2,206,920 | 17,296
71558 | KSMN | 320,813 | 320,808 | 2,514
33336 | KSMO-TV | 2,401,201 | 2,398,686 | 18,799
28510 | KSMQ-TV | 524,391 | 507,983 | 3,981
35611 | KSMS-TV | 1,589,263 | 882,948 | 6,920
21161 | KSNB-TV | 658,560 | 656,650 | 5,146
72359 | KSNC | 174,135 | 173,744 | 1,362
67766 | KSNF | 621,919 | 617,868 | 4,842
72361 | KSNG | 145,058 | 144,822 | 1,135
72362 | KSNK | 48,715 | 45,414 | 356
67335 | KSNT | 622,818 | 594,604 | 4,660
10179 | KSNV | 1,967,781 | 1,919,296 | 15,042
72358 | KSNW | 789,136 | 788,882 | 6,182
61956 | KSPS-TV * | 819,101 | 769,852 | 6,033
52953 | KSPX-TV | 6,745,180 | 4,966,590 | 38,923
166546 | KSQA | 382,328 | 374,290 | 2,933
53313 | KSRE | 75,181 | 75,181 | 589
35843 | KSTC-TV | 3,843,788 | 3,835,674 | 30,060
63182 | KSTF | 51,317 | 51,122 | 401
28010 | KSTP-TV | 3,788,898 | 3,782,053 | 29,640
60534 | KSTR-DT | 6,617,736 | 6,615,573 | 51,846
64987 | KSTS | 7,645,340 | 6,333,303 | 49,634
22215 | KSTU | 2,384,996 | 2,201,716 | 17,255
23428 | KSTW | 4,265,956 | 4,186,266 | 32,808
5243 | KSVI | 175,390 | 173,667 | 1,361
58827 | KSWB-TV | 3,677,190 | 3,488,655 | 27,341
60683 | KSWK | 79,012 | 78,784 | 617
35645 | KSWO-TV | 483,132 | 458,057 | 3,590
74449 | KSWT | 398,681 | 393,135 | 3,081
61350 | KSYS | 519,209 | 443,204 | 3,473
59988 | KTAB-TV | 270,967 | 268,579 | 2,105
999 | KTAJ-TV | 2,343,843 | 2,343,227 | 18,364
35648 | KTAL-TV | 1,094,332 | 1,092,958 | 8,566
12930 | KTAS | 471,882 | 464,149 | 3,638
81458 | KTAZ | 4,182,503 | 4,160,481 | 32,606
35649 | KTBC | 3,242,215 | 2,956,614 | 23,171
67884 | KTBN-TV | 17,795,677 | 16,510,302 | 129,391
67999 | KTBO-TV | 1,585,283 | 1,583,664 | 12,411
35652 | KTBS-TV | 1,163,228 | 1,159,665 | 9,088
28324 | KTBU | 6,035,927 | 6,035,725 | 47,302
67950 | KTBW-TV | 4,202,104 | 4,113,420 | 32,237
35655 | KTBY | 348,080 | 346,562 | 2,716
68594 | KTCA-TV | 3,693,877 | 3,684,081 | 28,872
68597 | KTCI-TV | 3,606,606 | 3,597,183 | 28,191
35187 | KTCW | 100,392 | 83,777 | 657
36916 | KTDO | 1,015,336 | 1,010,771 | 7,921
2769 | KTEJ | 419,750 | 417,368 | 3,271
83707 | KTEL-TV | 53,423 | 53,414 | 419
35666 | KTEN | 566,422 | 564,096 | 4,421
24514 | KTFD-TV | 3,210,669 | 3,172,543 | 24,863
35512 | KTFF-DT | 2,225,169 | 2,203,398 | 17,268
20871 | KTFK-DT | 6,969,307 | 5,211,719 | 40,844
68753 | KTFN | 1,017,335 | 1,013,157 | 7,940
35084 | KTFQ-TV | 1,151,433 | 1,117,061 | 8,754
29232 | KTGM | 159,358 | 159,091 | 1,247
2787 | KTHV * | 1,275,062 | 1,246,348 | 9,768
29100 | KTIN | 281,096 | 279,385 | 2,190
66170 | KTIV | 751,089 | 746,274 | 5,849
49397 | KTKA-TV | 567,958 | 566,406 | 4,439
35670 | KTLA | 18,156,910 | 16,870,262 | 132,212
62354 | KTLM | 1,014,202 | 1,014,186 | 7,948
49153 | KTLN-TV | 5,209,087 | 4,490,249 | 35,190
64984 | KTMD | 6,095,741 | 6,095,606 | 47,771
14675 | KTMF | 187,251 | 168,526 | 1,321
10177 | KTMW | 2,261,671 | 2,144,791 | 16,809
21533 | KTNC-TV | 8,048,427 | 7,069,903 | 55,407
47996 | KTNE-TV | 100,341 | 95,324 | 747
60519 | KTNL-TV | 8,642 | 8,642 | 68
74100 | KTNV-TV | 2,094,506 | 1,936,752 | 15,178
71023 | KTNW | 450,926 | 432,398 | 3,389
8651 | KTOO-TV | 31,269 | 31,176 | 244
7078 | KTPX-TV | 1,066,196 | 1,063,754 | 8,337
68541 | KTRE | 441,879 | 421,406 | 3,303
35675 | KTRK-TV | 6,114,259 | 6,112,870 | 47,907
28230 | KTRV-TV | 714,833 | 707,557 | 5,545
69170 | KTSC | 3,124,536 | 2,949,795 | 23,118
61066 | KTSD-TV | 83,645 | 82,828 | 649
37511 | KTSF | 7,921,124 | 6,576,672 | 51,541
67760 | KTSM-TV | 1,015,348 | 1,011,264 | 7,925
35678 | KTTC | 815,213 | 731,919 | 5,736
28501 | KTTM | 76,133 | 73,664 | 577
11908 | KTTU | 1,324,801 | 1,060,613 | 8,312
22208 | KTTV * | 17,380,551 | 16,693,085 | 130,824
28521 | KTTW | 329,557 | 326,309 | 2,557
65355 | KTTZ-TV | 380,240 | 380,225 | 2,980
35685 | KTUL | 1,416,959 | 1,388,183 | 10,879
10173 | KTUU-TV | 380,240 | 379,047 | 2,971
77480 | KTUZ-TV | 1,668,531 | 1,666,026 | 13,057
49632 | KTVA | 342,517 | 342,300 | 2,683
34858 | KTVB * | 714,865 | 707,882 | 5,548
31437 | KTVC | 137,239 | 100,204 | 785
68581 | KTVD | 3,800,970 | 3,547,607 | 27,803
35692 | KTVE | 641,139 | 640,201 | 5,017
49621 | KTVF | 98,068 | 97,929 | 767
5290 | KTVH-DT | 228,832 | 184,264 | 1,444
35693 | KTVI | 2,979,889 | 2,976,494 | 23,327
40993 | KTVK | 4,184,825 | 4,173,024 | 32,704
22570 | KTVL | 415,327 | 358,979 | 2,813
18066 | KTVM-TV * | 260,105 | 217,694 | 1,706
59139 | KTVN * | 955,490 | 800,420 | 6,273
21251 | KTVO | 148,780 | 148,647 | 1,165
35694 | KTVQ | 179,797 | 173,271 | 1,358
50592 | KTVR | 147,808 | 54,480 | 427
23422 | KTVT | 6,912,366 | 6,908,715 | 54,144
35703 | KTVU | 7,913,996 | 6,825,643 | 53,493
35705 | KTVW-DT | 4,173,111 | 4,159,807 | 32,600
68889 | KTVX | 2,389,392 | 2,200,520 | 17,245
55907 | KTVZ | 201,828 | 198,558 | 1,556
18286 | KTWO-TV | 80,426 | 79,905 | 626
70938 | KTWU | 1,703,798 | 1,562,305 | 12,244
51517 | KTXA | 6,876,811 | 6,873,221 | 53,865
42359 | KTXD-TV | 6,706,651 | 6,704,781 | 52,545
51569 | KTXH | 6,092,710 | 6,092,525 | 47,747
10205 | KTXL | 7,355,088 | 5,411,484 | 42,410
308 | KTXS-TV | 247,603 | 246,760 | 1,934
69315 | KUAC-TV | 98,717 | 98,189 | 770
51233 | KUAM-TV | 159,358 | 159,358 | 1,249
2722 | KUAS-TV | 994,802 | 977,391 | 7,660
2731 | KUAT-TV | 1,485,024 | 1,253,342 | 9,822
60520 | KUBD | 14,817 | 13,363 | 105
70492 | KUBE-TV | 6,090,970 | 6,090,817 | 47,734
1136 | KUCW | 2,388,889 | 2,199,787 | 17,240
69396 | KUED | 2,388,995 | 2,203,093 | 17,266
69582 | KUEN | 2,364,481 | 2,184,483 | 17,120
82576 | KUES | 30,925 | 25,978 | 204
82585 | KUEW | 132,168 | 120,411 | 944
66611 | KUFM-TV | 187,680 | 166,697 | 1,306
169028 | KUGF-TV | 86,622 | 85,986 | 674
68717 | KUHM-TV | 154,836 | 145,241 | 1,138
69269 | KUHT * | 6,090,213 | 6,089,665 | 47,725
62382 | KUID-TV | 432,855 | 284,023 | 2,226
169027 | KUKL-TV | 124,505 | 115,844 | 908
35724 | KULR-TV | 177,242 | 170,142 | 1,333
41429 | KUMV-TV | 41,607 | 41,224 | 323
81447 | KUNP | 130,559 | 43,472 | 341
4624 | KUNS-TV | 4,023,436 | 4,002,433 | 31,367
86532 | KUOK | 28,974 | 28,945 | 227
66589 | KUON-TV | 1,375,257 | 1,360,005 | 10,658
86263 | KUPB | 318,914 | 318,914 | 2,499
65535 | KUPK | 149,642 | 148,180 | 1,161
27431 | KUPT | 87,602 | 87,602 | 687
89714 | KUPU | 956,178 | 948,005 | 7,430
57884 | KUPX-TV | 2,374,672 | 2,191,229 | 17,173
23074 | KUSA | 3,803,461 | 3,561,587 | 27,912
61072 | KUSD-TV | 460,480 | 460,277 | 3,607
10238 | KUSI-TV | 3,572,818 | 3,435,670 | 26,925
43567 | KUSM-TV | 115,864 | 106,398 | 834
69694 | KUTF | 1,210,774 | 1,031,870 | 8,087
81451 | KUTH-DT | 2,219,788 | 2,027,174 | 15,887
68886 | KUTP | 4,191,015 | 4,176,014 | 32,727
35823 | KUTV | 2,388,211 | 2,192,182 | 17,180
63927 | KUVE-DT | 1,294,971 | 964,396 | 7,558
7700 | KUVI-DT | 1,204,490 | 1,009,943 | 7,915
35841 | KUVN-DT | 6,680,126 | 6,678,157 | 52,337
58609 | KUVS-DT | 4,043,413 | 4,005,657 | 31,392
49766 | KVAL-TV | 1,016,673 | 866,173 | 6,788
32621 | KVAW | 76,153 | 76,153 | 597
58795 | KVCR-DT * | 18,215,524 | 17,467,140 | 136,890
35846 | KVCT | 288,221 | 287,446 | 2,253
10195 | KVCW | 1,967,550 | 1,918,811 | 15,038
64969 | KVDA | 2,400,582 | 2,391,810 | 18,745
19783 | KVEA | 17,423,429 | 16,146,250 | 126,538
12523 | KVEO-TV | 1,244,504 | 1,244,504 | 9,753
2495 | KVEW | 476,720 | 464,347 | 3,639
35852 | KVHP | 747,917 | 747,837 | 5,861
49832 | KVIA-TV | 1,015,350 | 1,011,266 | 7,925
35855 | KVIE * | 10,759,440 | 7,467,369 | 58,522
40450 | KVIH-TV | 91,912 | 91,564 | 718
40446 | KVII-TV | 379,042 | 378,218 | 2,964
61961 | KVLY-TV | 350,732 | 350,449 | 2,746
16729 | KVMD | 6,145,526 | 4,116,524 | 32,261
83825 | KVME-TV | 26,711 | 22,802 | 179
25735 | KVOA | 1,317,956 | 1,030,404 | 8,075
35862 | KVOS-TV | 2,019,168 | 1,954,667 | 15,319
69733 | KVPT | 1,744,349 | 1,719,318 | 13,474
55372 | KVRR | 356,645 | 356,645 | 2,795
166331 | KVSN-DT | 2,706,244 | 2,283,409 | 17,895
608 | KVTH-DT | 303,755 | 299,230 | 2,345
2784 | KVTJ-DT | 1,466,426 | 1,465,802 | 11,487
607 | KVTN-DT | 936,328 | 925,884 | 7,256
35867 | KVUE | 2,661,290 | 2,611,314 | 20,465
78910 | KVUI | 257,964 | 251,872 | 1,974
35870 | KVVU-TV | 2,042,029 | 1,935,466 | 15,168
36170 | KVYE | 396,495 | 392,498 | 3,076
35095 | KWBA-TV | 1,129,524 | 1,073,029 | 8,409
78314 | KWBM | 657,822 | 639,560 | 5,012
27425 | KWBN | 953,207 | 840,455 | 6,587
76268 | KWBQ | 1,148,810 | 1,105,600 | 8,665
66413 | KWCH-DT | 883,647 | 881,674 | 6,910
71549 | KWCM-TV | 252,284 | 244,033 | 1,912
35419 | KWDK | 4,196,263 | 4,118,699 | 32,278
42007 | KWES-TV | 424,862 | 423,544 | 3,319
50194 | KWET | 127,976 | 112,750 | 884
35881 | KWEX-DT | 2,376,463 | 2,370,469 | 18,577
35883 | KWGN-TV | 3,706,495 | 3,513,577 | 27,536
37099 | KWHB | 979,393 | 978,719 | 7,670
37103 | KWHD | 97,959 | 94,560 | 741
36846 | KWHE | 952,966 | 834,341 | 6,539
26231 | KWHY-TV * | 17,736,497 | 17,695,306 | 138,678
35096 | KWKB | 1,121,676 | 1,111,629 | 8,712
162115 | KWKS | 39,708 | 39,323 | 308
12522 | KWKT-TV | 1,010,550 | 1,010,236 | 7,917
21162 | KWNB-TV | 91,093 | 89,332 | 700
67347 | KWOG | 512,412 | 505,049 | 3,958
56852 | KWPX-TV | 4,220,008 | 4,148,577 | 32,512
6885 | KWQC-TV | 1,080,156 | 1,067,249 | 8,364
29121 | KWSD | 280,675 | 280,672 | 2,200
53318 | KWSE | 54,471 | 53,400 | 418
71024 | KWSU-TV | 725,554 | 468,295 | 3,670
25382 | KWTV-DT | 1,628,106 | 1,627,198 | 12,752
35903 | KWTX-TV | 2,071,023 | 1,972,365 | 15,457
593 | KWWL * | 1,089,498 | 1,078,458 | 8,452
84410 | KWWT | 293,291 | 293,291 | 2,299
14674 | KWYB | 86,495 | 69,598 | 545
10032 | KWYP-DT | 128,874 | 126,992 | 995
35920 | KXAN-TV | 2,678,666 | 2,624,648 | 20,569
49330 | KXAS-TV | 6,774,295 | 6,771,827 | 53,071
24287 | KXGN-TV | 14,217 | 13,883 | 109
35954 | KXII | 2,323,974 | 2,264,951 | 17,750
55083 | KXLA | 17,929,100 | 16,794,896 | 131,622
35959 | KXLF-TV | 258,100 | 217,808 | 1,707
53847 | KXLN-DT | 6,085,891 | 6,085,712 | 47,694
35906 | KXLT-TV | 348,025 | 347,296 | 2,722
61978 | KXLY-TV * | 772,116 | 740,960 | 5,807
55684 | KXMA-TV | 32,005 | 31,909 | 250
55686 | KXMB-TV | 142,755 | 138,506 | 1,085
55685 | KXMC-TV | 97,569 | 89,483 | 701
55683 | KXMD-TV | 37,962 | 37,917 | 297
47995 | KXNE-TV | 300,021 | 298,839 | 2,342
81593 | KXNW | 602,168 | 597,747 | 4,685
35991 | KXRM-TV | 1,843,363 | 1,500,689 | 11,761
1255 | KXTF | 121,558 | 121,383 | 951
25048 | KXTV | 10,759,864 | 7,477,140 | 58,598
35994 | KXTX-TV | 6,721,578 | 6,718,616 | 52,654
62293 | KXVA | 185,478 | 185,276 | 1,452
23277 | KXVO | 1,404,703 | 1,403,380 | 10,998
9781 | KXXV | 1,771,620 | 1,748,287 | 13,701
31870 | KYAZ | 6,038,257 | 6,038,071 | 47,320
21488 | KYES-TV | 381,413 | 380,355 | 2,981
29086 | KYIN | 581,748 | 574,691 | 4,504
60384 | KYLE-TV | 324,032 | 324,025 | 2,539
33639 | KYMA-DT | 396,278 | 391,619 | 3,069
47974 | KYNE-TV | 929,406 | 929,242 | 7,282
53820 | KYOU-TV | 651,334 | 640,935 | 5,023
36003 | KYTV | 1,095,904 | 1,083,524 | 8,492
55644 | KYTX | 927,327 | 925,550 | 7,254
13815 | KYUR | 379,943 | 379,027 | 2,970
5237 | KYUS-TV | 12,496 | 12,356 | 97
33752 | KYVE | 301,951 | 259,559 | 2,034
55762 | KYVV-TV | 67,201 | 67,201 | 527
25453 | KYW-TV | 11,061,941 | 10,876,511 | 85,239
69531 | KZJL | 6,037,458 | 6,037,272 | 47,314
69571 | KZJO | 4,179,154 | 4,124,424 | 32,323
61062 | KZSD-TV | 41,207 | 35,825 | 281
33079 | KZTV | 567,635 | 564,464 | 4,424
57292 | WAAY-TV | 1,498,006 | 1,428,197 | 11,193
1328 | WABC-TV * | 20,948,273 | 20,560,001 | 161,129
43203 | WABG-TV | 393,020 | 392,348 | 3,075
17005 | WABI-TV | 530,773 | 510,729 | 4,003
16820 | WABM | 1,703,202 | 1,675,700 | 13,132
23917 | WABW-TV | 1,097,560 | 1,096,376 | 8,592
19199 | WACH | 1,317,429 | 1,316,792 | 10,320
189358 | WACP | 9,415,263 | 9,301,049 | 72,892
23930 | WACS-TV | 621,686 | 616,443 | 4,831
60018 | WACX | 3,967,118 | 3,966,535 | 31,086
361 | WACY-TV | 946,580 | 946,071 | 7,414
455 | WADL | 4,610,514 | 4,602,962 | 36,073
589 | WAFB | 1,857,882 | 1,857,418 | 14,557
591 | WAFF | 1,197,068 | 1,110,122 | 8,700
70689 | WAGA-TV | 6,000,355 | 5,923,191 | 46,420
48305 | WAGM-TV | 64,721 | 63,331 | 496
37809 | WAGV | 1,193,158 | 1,060,935 | 8,315
706 | WAIQ | 611,733 | 609,794 | 4,779
701 | WAKA | 799,637 | 793,645 | 6,220
4143 | WALA-TV | 1,320,419 | 1,318,127 | 10,330
70713 | WALB | 773,899 | 772,467 | 6,054
60536 | WAMI-DT | 5,449,193 | 5,449,193 | 42,705
70852 | WAND | 1,400,271 | 1,398,521 | 10,960
39270 | WANE-TV | 1,108,844 | 1,108,844 | 8,690
52280 | WAOE | 613,812 | 613,784 | 4,810
64546 | WAOW | 636,957 | 629,068 | 4,930
52073 | WAPA-TV | 3,764,742 | 3,363,102 | 21,902
49712 | WAPT | 793,621 | 791,620 | 6,204
67792 | WAQP | 1,992,340 | 1,983,143 | 15,542
13206 | WATC-DT | 5,637,070 | 5,616,513 | 44,017
71082 | WATE-TV | 1,874,433 | 1,638,059 | 12,837
22819 | WATL | 5,882,837 | 5,819,099 | 45,604
20287 | WATM-TV | 937,438 | 785,510 | 6,156
11907 | WATN-TV | 1,787,595 | 1,784,560 | 13,986
13989 | WAVE | 1,846,212 | 1,836,231 | 14,391
71127 | WAVY-TV | 2,039,358 | 2,039,341 | 15,982
54938 | WAWD | 553,676 | 553,591 | 4,338
65247 | WAWV-TV | 705,549 | 699,377 | 5,481
12793 | WAXN-TV | 2,677,951 | 2,669,224 | 20,919
65696 | WBAL-TV | 9,596,587 | 9,190,139 | 72,023
74417 | WBAY-TV | 1,225,928 | 1,225,335 | 9,603
71085 | WBBH-TV | 2,046,391 | 2,046,391 | 16,038
65204 | WBBJ-TV | 662,148 | 658,016 | 5,157
9617 | WBBM-TV * | 9,914,233 | 9,907,806 | 77,647
9088 | WBBZ-TV | 1,269,256 | 1,260,686 | 9,880
70138 | WBDT | 3,660,544 | 3,646,874 | 28,581
51349 | WBEC-TV | 5,421,355 | 5,421,355 | 42,487
10758 | WBFF | 8,509,757 | 8,339,882 | 65,360
12497 | WBFS-TV | 5,349,613 | 5,349,613 | 41,925
6568 | WBGU-TV | 1,343,816 | 1,343,816 | 10,531
81594 | WBIF | 309,707 | 309,707 | 2,427
84802 | WBIH | 736,501 | 724,345 | 5,677
717 | WBIQ | 1,563,080 | 1,532,266 | 12,008
46984 | WBIR-TV | 1,978,347 | 1,701,857 | 13,337
67048 | WBKB-TV | 136,823 | 130,625 | 1,024
34167 | WBKI | 1,983,992 | 1,968,048 | 15,424
4692 | WBKO | 963,413 | 862,651 | 6,761
76001 | WBKP | 55,655 | 55,305 | 433
68427 | WBMM | 562,284 | 562,123 | 4,405
73692 | WBNA | 1,699,683 | 1,666,248 | 13,058
23337 | WBNG-TV * | 1,442,745 | 1,060,329 | 8,310
71217 | WBNS-TV | 2,847,721 | 2,784,795 | 21,824
72958 | WBNX-TV | 3,642,304 | 3,629,347 | 28,443
71218 | WBOC-TV | 813,888 | 813,888 | 6,378
71220 | WBOY-TV | 711,302 | 621,367 | 4,870
60850 | WBPH-TV * | 10,613,847 | 9,474,797 | 74,254
7692 | WBPX-TV | 6,833,712 | 6,761,949 | 52,993
5981 | WBRA-TV | 1,726,408 | 1,677,204 | 13,144
71221 | WBRC | 1,884,007 | 1,849,135 | 14,492
71225 | WBRE-TV * | 2,879,196 | 2,244,735 | 17,592
38616 | WBRZ-TV | 2,223,336 | 2,222,309 | 17,416
82627 | WBSF | 1,836,543 | 1,832,446 | 14,361
30826 | WBTV | 4,433,020 | 4,295,962 | 33,667
66407 | WBTW | 1,975,457 | 1,959,172 | 15,354
16363 | WBUI | 981,884 | 981,868 | 7,695
59281 | WBUP | 126,472 | 112,603 | 882
60830 | WBUY-TV | 1,569,254 | 1,567,815 | 12,287
72971 | WBXX-TV | 2,142,759 | 1,984,544 | 15,553
25456 | WBZ-TV | 7,764,394 | 7,616,633 | 59,692
63153 | WCAU | 11,269,831 | 11,098,540 | 86,979
363 | WCAV | 949,729 | 727,455 | 5,701
46728 | WCAX-TV | 784,748 | 661,547 | 5,185
39659 | WCBB | 964,079 | 910,222 | 7,133
10587 | WCBD-TV | 1,149,489 | 1,149,489 | 9,009
12477 | WCBI-TV | 680,511 | 678,424 | 5,317
9610 | WCBS-TV | 21,713,751 | 21,187,849 | 166,049
49157 | WCCB | 3,542,464 | 3,489,260 | 27,345
9629 | WCCO-TV | 3,837,442 | 3,829,714 | 30,013
14050 | WCCT-TV | 5,818,471 | 5,307,612 | 41,596
69544 | WCCU | 395,106 | 395,102 | 3,096
3001 | WCCV-TV | 3,391,703 | 2,482,544 | 16,168
23937 | WCES-TV | 1,098,868 | 1,097,706 | 8,603
65666 | WCET | 3,122,924 | 3,108,328 | 24,360
46755 | WCFE-TV | 445,131 | 411,198 | 3,223
71280 | WCHS-TV | 1,352,824 | 1,274,766 | 9,990
42124 | WCIA | 796,609 | 795,428 | 6,234
711 | WCIQ * | 3,181,068 | 3,033,573 | 23,774
71428 | WCIU-TV | 9,891,328 | 9,888,390 | 77,495
9015 | WCIV | 1,152,800 | 1,152,800 | 9,034
42116 | WCIX | 554,002 | 549,682 | 4,308
16993 | WCJB-TV | 977,492 | 977,492 | 7,661
11125 | WCLF | 4,097,389 | 4,096,624 | 32,105
68007 | WCLJ-TV | 2,258,426 | 2,256,937 | 17,688
50781 | WCMH-TV | 2,756,260 | 2,712,989 | 21,262
9917 | WCML | 233,439 | 224,255 | 1,757
9908 | WCMU-TV | 707,702 | 699,551 | 5,482
9922 | WCMV | 418,707 | 407,222 | 3,191
9913 | WCMW | 106,975 | 104,859 | 822
32326 | WCNC-TV | 3,822,849 | 3,747,880 | 29,372
53734 | WCNY-TV | 1,358,685 | 1,290,632 | 10,115
73642 | WCOV-TV | 862,899 | 859,333 | 6,735
40618 | WCPB | 560,426 | 560,426 | 4,392
59438 | WCPO-TV | 3,328,920 | 3,311,833 | 25,955
10981 | WCPX-TV | 9,674,477 | 9,673,859 | 75,814
71297 | WCSC-TV | 1,028,018 | 1,028,018 | 8,057
39664 | WCSH | 1,682,955 | 1,457,618 | 11,423
69479 | WCTE | 612,760 | 541,314 | 4,242
18334 | WCTI-TV | 1,680,664 | 1,678,237 | 13,152
31590 | WCTV | 1,049,825 | 1,049,779 | 8,227
33081 | WCTX | 7,844,936 | 7,332,431 | 57,464
65684 | WCVB-TV | 7,741,540 | 7,606,326 | 59,611
9987 | WCVE-TV | 1,582,094 | 1,581,725 | 12,396
83304 | WCVI-TV | 50,601 | 50,495 | 396
34204 | WCVN-TV | 2,108,475 | 2,100,226 | 16,459
9989 | WCVW | 1,461,748 | 1,461,643 | 11,455
73042 | WCWF | 1,040,984 | 1,040,525 | 8,155
35385 | WCWG | 3,630,551 | 3,299,114 | 25,855
29712 | WCWJ | 1,582,959 | 1,582,959 | 12,406
73264 | WCWN | 1,698,469 | 1,512,848 | 11,856
2455 | WCYB-TV * | 2,363,002 | 2,057,404 | 16,124
11291 | WDAF-TV | 2,539,581 | 2,537,411 | 19,886
21250 | WDAM-TV | 512,594 | 500,343 | 3,921
22129 | WDAY-TV | 339,239 | 338,856 | 2,656
22124 | WDAZ-TV | 151,720 | 151,659 | 1,189
71325 | WDBB | 1,669,214 | 1,646,336 | 12,902
71326 | WDBD | 940,665 | 939,489 | 7,363
71329 | WDBJ | 1,606,844 | 1,439,716 | 11,283
51567 | WDCA | 8,070,491 | 8,015,328 | 62,816
16530 | WDCQ-TV | 1,269,199 | 1,269,199 | 9,947
30576 | WDCW | 8,155,998 | 8,114,847 | 63,596
54385 | WDEF-TV | 1,731,483 | 1,508,250 | 11,820
32851 | WDFX-TV | 271,499 | 270,942 | 2,123
43846 | WDHN | 452,377 | 451,978 | 3,542
71338 | WDIO-DT | 341,506 | 327,469 | 2,566
714 | WDIQ | 663,062 | 620,124 | 4,860
53114 | WDIV-TV | 5,425,162 | 5,424,963 | 42,515
71427 | WDJT-TV | 3,085,540 | 3,081,475 | 24,150
39561 | WDKA | 621,903 | 620,169 | 4,860
64017 | WDKY-TV | 1,204,817 | 1,173,579 | 9,197
67893 | WDLI-TV | 4,147,298 | 4,114,920 | 32,249
72335 | WDPB | 596,888 | 596,888 | 4,678
83740 | WDPM-DT | 1,365,977 | 1,364,744 | 10,695
1283 | WDPN-TV * | 11,594,463 | 11,467,616 | 89,872
6476 | WDPX-TV | 6,833,712 | 6,761,949 | 52,993
28476 | WDRB | 1,987,708 | 1,971,926 | 15,454
12171 | WDSC-TV | 3,376,247 | 3,376,247 | 26,460
17726 | WDSE | 330,994 | 316,643 | 2,482
71353 | WDSI-TV | 1,100,302 | 1,042,191 | 8,168
71357 | WDSU | 1,613,076 | 1,613,076 | 12,642
7908 | WDTI | 2,095,312 | 2,094,395 | 16,414
65690 | WDTN | 3,660,544 | 3,646,874 | 28,581
70592 | WDTV | 962,532 | 850,394 | 6,665
25045 | WDVM-TV | 3,074,837 | 2,646,508 | 20,741
4110 | WDWL | 2,638,361 | 2,379,555 | 15,497
49421 | WEAO | 3,919,602 | 3,892,146 | 30,503
71363 | WEAR-TV | 1,524,131 | 1,523,479 | 11,940
7893 | WEAU | 991,019 | 952,513 | 7,465
61003 | WEBA-TV | 645,039 | 635,967 | 4,984
19561 | WECN | 2,886,669 | 2,596,015 | 16,907
48666 | WECT | 1,134,918 | 1,134,918 | 8,894
13602 | WEDH | 5,328,800 | 4,724,167 | 37,023
13607 | WEDN | 3,451,170 | 2,643,344 | 20,716
69338 | WEDQ | 4,882,446 | 4,881,322 | 38,255
21808 | WEDU | 5,379,887 | 5,365,612 | 42,050
13594 | WEDW | 5,996,408 | 5,544,708 | 43,454
13595 | WEDY | 5,328,800 | 4,724,167 | 37,023
24801 | WEEK-TV | 698,238 | 698,220 | 5,472
6744 | WEFS | 3,380,743 | 3,380,743 | 26,495
24215 | WEHT | 847,299 | 835,128 | 6,545
721 | WEIQ | 1,046,465 | 1,046,116 | 8,198
18301 | WEIU-TV | 462,775 | 462,711 | 3,626
69271 | WEKW-TV | 1,072,240 | 546,881 | 4,286
60825 | WELF-TV | 1,491,382 | 1,414,528 | 11,086
26602 | WELU | 2,248,146 | 2,020,075 | 13,156
40761 | WEMT | 1,726,085 | 1,186,706 | 9,300
69237 | WENH-TV | 4,500,498 | 4,328,222 | 33,920
71508 | WENY-TV | 543,162 | 413,668 | 3,242
83946 | WEPH | 604,105 | 602,833 | 4,724
81508 | WEPX-TV | 859,535 | 859,535 | 6,736
25738 | WESH * | 4,059,180 | 4,048,459 | 31,728
65670 | WETA-TV | 7,607,834 | 7,576,217 | 59,375
69944 | WETK | 670,087 | 558,842 | 4,380
60653 | WETM-TV | 721,800 | 620,074 | 4,860
18252 | WETP-TV | 2,087,588 | 1,791,130 | 14,037
2709 | WEUX | 380,569 | 373,680 | 2,929
72041 | WEVV-TV | 752,417 | 750,555 | 5,882
59441 | WEWS-TV | 4,112,984 | 4,078,299 | 31,962
72052 | WEYI-TV | 3,715,686 | 3,652,991 | 28,628
72054 | WFAA * | 6,927,782 | 6,918,595 | 54,221
81669 | WFBD | 814,185 | 813,564 | 6,376
69532 | WFDC-DT | 8,155,998 | 8,114,847 | 63,596
10132 | WFFF-TV | 592,012 | 506,744 | 3,971
25040 | WFFT-TV | 1,088,489 | 1,088,354 | 8,529
11123 | WFGC | 2,759,457 | 2,759,457 | 21,626
6554 | WFGX | 1,440,245 | 1,437,744 | 11,268
13991 | WFIE | 731,856 | 729,985 | 5,721
715 | WFIQ | 546,563 | 544,258 | 4,265
64592 | WFLA-TV | 5,450,176 | 5,446,917 | 42,687
22211 | WFLD | 9,957,301 | 9,954,828 | 78,016
72060 | WFLI-TV | 1,272,913 | 1,125,349 | 8,819
39736 | WFLX | 5,740,086 | 5,740,086 | 44,985
72062 | WFMJ-TV | 3,504,955 | 3,262,270 | 25,566
72064 | WFMY-TV | 4,772,783 | 4,740,684 | 37,153
39884 | WFMZ-TV * | 10,613,847 | 9,474,797 | 74,254
83943 | WFNA | 1,391,519 | 1,390,447 | 10,897
47902 | WFOR-TV | 5,398,266 | 5,398,266 | 42,306
11909 | WFOX-TV | 1,602,888 | 1,602,888 | 12,562
40626 | WFPT | 5,829,226 | 5,442,352 | 42,652
21245 | WFPX-TV | 2,637,949 | 2,634,141 | 20,644
25396 | WFQX-TV | 537,340 | 534,314 | 4,187
9635 | WFRV-TV | 1,201,204 | 1,200,502 | 9,408
53115 | WFSB | 4,752,788 | 4,370,519 | 34,252
6093 | WFSG | 364,961 | 364,796 | 2,859
21801 | WFSU-TV | 576,105 | 576,093 | 4,515
11913 | WFTC | 3,787,177 | 3,770,207 | 29,547
64588 | WFTS-TV | 5,077,970 | 5,077,719 | 39,794
16788 | WFTT-TV | 4,523,828 | 4,521,879 | 35,438
72076 | WFTV | 3,849,576 | 3,849,576 | 30,169
70649 | WFTX-TV | 1,775,097 | 1,775,097 | 13,911
60553 | WFTY-DT | 5,678,755 | 5,560,460 | 43,577
25395 | WFUP | 217,655 | 216,861 | 1,700
60555 | WFUT-DT | 19,992,096 | 19,643,518 | 153,946
22108 | WFWA | 1,035,114 | 1,034,862 | 8,110
9054 | WFXB | 1,393,865 | 1,393,510 | 10,921
3228 | WFXG | 1,070,032 | 1,057,760 | 8,290
70815 | WFXL | 793,637 | 785,106 | 6,153
19707 | WFXP | 583,315 | 562,500 | 4,408
24813 | WFXR | 1,426,061 | 1,286,450 | 10,082
6463 | WFXT | 7,494,070 | 7,400,830 | 58,000
22245 | WFXU | 211,721 | 211,721 | 1,659
43424 | WFXV | 633,597 | 558,968 | 4,381
25236 | WFXW | 274,078 | 270,967 | 2,124
41397 | WFYI | 2,389,627 | 2,388,970 | 18,722
53930 | WGAL * | 6,287,688 | 5,610,833 | 43,972
2708 | WGBA-TV | 1,170,375 | 1,170,127 | 9,170
24314 | WGBC | 249,415 | 249,235 | 1,953
72099 | WGBH-TV * | 7,711,842 | 7,601,732 | 59,575
12498 | WGBO-DT | 9,771,815 | 9,769,552 | 76,564
72098 | WGBX-TV | 7,476,751 | 7,378,958 | 57,829
72096 | WGBY-TV | 4,470,009 | 3,739,675 | 29,308
72120 | WGCL-TV | 6,027,276 | 5,961,471 | 46,720
62388 | WGCU | 1,403,602 | 1,403,602 | 11,000
54275 | WGEM-TV * | 361,598 | 356,682 | 2,795
27387 | WGEN-TV | 43,037 | 43,037 | 337
7727 | WGFL | 759,234 | 759,234 | 5,950
25682 | WGGB-TV | 3,443,447 | 3,005,875 | 23,557
11027 | WGGN-TV | 1,991,462 | 1,969,331 | 15,434
9064 | WGGS-TV | 2,759,326 | 2,705,067 | 21,200
72106 | WGHP | 3,774,522 | 3,734,200 | 29,265
710 | WGIQ | 363,849 | 363,806 | 2,851
12520 | WGMB-TV | 1,739,804 | 1,739,640 | 13,634
25683 | WGME-TV | 1,495,724 | 1,325,465 | 10,388
24618 | WGNM | 742,533 | 741,501 | 5,811
72119 | WGNO | 1,641,765 | 1,641,765 | 12,867
9762 | WGNT | 1,875,612 | 1,875,578 | 14,699
72115 | WGN-TV | 9,942,959 | 9,941,552 | 77,912
40619 | WGPT | 578,294 | 344,300 | 2,698
65074 | WGPX-TV | 2,765,350 | 2,754,743 | 21,589
64547 | WGRZ | 1,878,725 | 1,812,309 | 14,203
63329 | WGTA | 1,061,654 | 1,030,538 | 8,076
66285 | WGTE-TV | 2,210,496 | 2,208,927 | 17,311
59279 | WGTQ | 95,618 | 92,019 | 721
59280 | WGTU | 358,543 | 353,477 | 2,770
23948 | WGTV | 5,880,594 | 5,832,714 | 45,711
7623 | WGTW-TV | 807,797 | 807,797 | 6,331
24783 | WGVK | 2,439,225 | 2,437,526 | 19,103
24784 | WGVU-TV * | 1,825,744 | 1,784,264 | 13,983
21536 | WGWG | 986,963 | 986,963 | 7,735
56642 | WGWW | 1,677,166 | 1,647,976 | 12,915
58262 | WGXA | 779,955 | 779,087 | 6,106
73371 | WHAM-TV | 1,323,785 | 1,275,674 | 9,997
32327 | WHAS-TV * | 1,955,983 | 1,925,901 | 15,093
6096 | WHA-TV | 1,636,473 | 1,629,171 | 12,768
13950 | WHBF-TV * | 1,712,339 | 1,704,072 | 13,355
12521 | WHBQ-TV | 1,736,335 | 1,708,345 | 13,388
10894 | WHBR | 1,302,764 | 1,302,041 | 10,204
65128 | WHDF | 1,553,469 | 1,502,852 | 11,778
72145 | WHDH | 7,319,659 | 7,236,210 | 56,710
83929 | WHDT | 5,640,324 | 5,640,324 | 44,203
70041 | WHEC-TV | 1,322,243 | 1,279,606 | 10,028
67971 | WHFT-TV | 5,417,409 | 5,417,409 | 42,456
41458 | WHIO-TV | 3,896,757 | 3,879,363 | 30,403
713 | WHIQ | 1,278,174 | 1,225,940 | 9,608
61216 | WHIZ-TV | 910,864 | 831,894 | 6,520
65919 | WHKY-TV | 3,038,732 | 2,974,919 | 23,314
18780 | WHLA-TV | 467,264 | 443,002 | 3,472
48668 | WHLT | 484,432 | 483,532 | 3,789
24582 | WHLV-TV | 3,825,468 | 3,825,468 | 29,980
37102 | WHMB-TV | 2,847,719 | 2,828,250 | 22,165
61004 | WHMC | 943,543 | 942,807 | 7,389
36117 | WHME-TV | 1,271,796 | 1,271,715 | 9,966
37106 | WHNO | 1,499,653 | 1,499,653 | 11,753
72300 | WHNS | 2,549,397 | 2,266,911 | 17,766
48693 | WHNT-TV | 1,569,885 | 1,487,578 | 11,658
66221 | WHO-DT * | 1,120,480 | 1,099,818 | 8,619
6866 | WHOI | 679,446 | 679,434 | 5,325
72313 | WHP-TV | 4,030,693 | 3,538,096 | 27,728
51980 | WHPX-TV | 5,579,464 | 5,114,336 | 40,081
73036 | WHRM-TV | 495,398 | 495,174 | 3,881
25932 | WHRO-TV | 2,149,481 | 2,149,410 | 16,845
68058 | WHSG-TV | 5,870,314 | 5,808,605 | 45,522
4688 | WHSV-TV | 845,013 | 711,912 | 5,579
9990 | WHTJ | 723,698 | 490,045 | 3,840
72326 | WHTM-TV | 2,829,585 | 2,367,000 | 18,550
11117 | WHTN | 1,872,713 | 1,856,716 | 14,551
27772 | WHUT-TV | 7,649,763 | 7,617,337 | 59,697
18793 | WHWC-TV | 994,710 | 946,335 | 7,416
72338 | WHYY-TV | 10,379,045 | 9,982,651 | 78,234
5360 | WIAT | 1,837,072 | 1,802,810 | 14,129
63160 | WIBW-TV | 1,089,708 | 1,050,918 | 8,236
25684 | WICD | 1,238,332 | 1,237,046 | 9,695
25686 | WICS | 1,011,833 | 1,007,132 | 7,893
24970 | WICU-TV | 740,115 | 683,435 | 5,356
62210 | WICZ-TV | 976,771 | 780,174 | 6,114
18410 | WIDP | 2,559,306 | 2,286,123 | 14,888
26025 | WIFS | 1,400,358 | 1,397,144 | 10,949
720 | WIIQ | 353,241 | 347,685 | 2,725
68939 | WILL-TV | 1,178,545 | 1,158,147 | 9,076
6863 | WILX-TV | 3,378,644 | 3,218,221 | 25,221
22093 | WINK-TV | 1,851,105 | 1,851,105 | 14,507
67787 | WINM | 1,001,485 | 971,031 | 7,610
41314 | WINP-TV | 2,804,646 | 2,748,454 | 21,540
3646 | WIPB | 1,962,078 | 1,961,899 | 15,375
48408 | WIPL | 850,656 | 799,165 | 6,263
53863 | WIPM-TV | 2,196,157 | 1,870,057 | 2,269
53859 | WIPR-TV | 3,596,802 | 3,382,849 | 22,031
10253 | WIPX-TV | 2,258,426 | 2,256,937 | 17,688
39887 | WIRS | 1,153,382 | 916,310 | 4,706
71336 | WIRT-DT | 127,001 | 126,300 | 990
13990 | WIS | 2,644,715 | 2,600,887 | 20,383
65143 | WISC-TV | 1,830,642 | 1,811,579 | 14,197
13960 | WISE-TV | 1,070,155 | 1,070,155 | 8,387
39269 | WISH-TV | 2,912,963 | 2,855,253 | 22,377
65680 | WISN-TV | 2,938,180 | 2,926,133 | 22,932
73083 | WITF-TV | 2,412,561 | 2,191,501 | 17,175
73107 | WITI | 3,117,342 | 3,107,791 | 24,356
594 | WITN-TV | 1,768,040 | 1,754,388 | 13,749
61005 | WITV | 1,081,393 | 1,081,393 | 8,475
7780 | WIVB-TV | 1,538,108 | 1,502,969 | 11,779
11260 | WIVT | 856,453 | 607,256 | 4,759
60571 | WIWN * | 3,338,845 | 3,323,941 | 26,050
62207 | WIYC | 526,556 | 525,826 | 4,121
73120 | WJAC-TV | 2,219,529 | 1,897,986 | 14,875
10259 | WJAL * | 8,750,706 | 8,446,074 | 66,192
50780 | WJAR | 6,537,858 | 6,428,263 | 50,378
35576 | WJAX-TV | 1,630,782 | 1,630,782 | 12,780
27140 | WJBF | 1,601,531 | 1,585,550 | 12,426
73123 | WJBK | 5,748,623 | 5,711,224 | 44,759
37174 | WJCL | 938,086 | 938,086 | 7,352
73130 | WJCT | 1,624,624 | 1,624,033 | 12,728
29719 | WJEB-TV | 1,607,510 | 1,607,510 | 12,598
65749 | WJET-TV | 747,431 | 717,721 | 5,625
7651 | WJFB | 1,744,291 | 1,736,932 | 13,612
49699 | WJFW-TV | 277,530 | 268,295 | 2,103
73136 | WJHG-TV | 864,121 | 859,823 | 6,738
57826 | WJHL-TV * | 2,037,793 | 1,428,213 | 11,193
68519 | WJKT | 654,460 | 653,378 | 5,121
1051 | WJLA-TV * | 8,750,706 | 8,447,643 | 66,204
86537 | WJLP | 21,384,863 | 21,119,366 | 165,512
9630 | WJMN-TV | 160,991 | 154,424 | 1,210
61008 | WJPM-TV | 623,965 | 623,813 | 4,889
58340 | WJPX | 3,254,481 | 3,008,658 | 19,594
21735 | WJRT-TV | 2,788,684 | 2,543,446 | 19,933
23918 | WJSP-TV | 4,225,860 | 4,188,428 | 32,825
41210 | WJTC | 1,347,474 | 1,346,205 | 10,550
48667 | WJTV | 987,206 | 980,717 | 7,686
73150 | WJW | 3,977,148 | 3,905,325 | 30,606
61007 | WJWJ-TV | 1,008,890 | 1,008,890 | 7,907
58342 | WJWN-TV | 1,962,885 | 1,690,961 | 4,706
53116 | WJXT | 1,608,682 | 1,608,682 | 12,607
11893 | WJXX | 1,618,191 | 1,617,272 | 12,675
32334 | WJYS | 9,647,321 | 9,647,299 | 75,606
25455 | WJZ-TV * | 9,253,891 | 8,902,229 | 69,767
73152 | WJZY | 4,432,745 | 4,301,117 | 33,708
64983 | WKAQ-TV | 3,697,088 | 3,287,110 | 21,407
6104 | WKAR-TV | 1,693,373 | 1,689,830 | 13,243
34171 | WKAS | 503,790 | 476,158 | 3,732
51570 | WKBD-TV | 5,065,617 | 5,065,350 | 39,697
73153 | WKBN-TV | 4,898,622 | 4,535,576 | 35,545
13929 | WKBS-TV | 831,411 | 682,182 | 5,346
74424 | WKBT-DT | 866,325 | 824,795 | 6,464
54176 | WKBW-TV | 2,033,929 | 1,942,743 | 15,225
53465 | WKCF | 4,032,154 | 4,031,823 | 31,597
73155 | WKEF | 3,623,762 | 3,619,081 | 28,363
34177 | WKGB-TV | 384,474 | 382,825 | 3,000
34196 | WKHA | 511,281 | 400,721 | 3,140
34207 | WKLE | 837,269 | 825,691 | 6,471
34212 | WKMA-TV | 454,447 | 453,482 | 3,554
71293 | WKMG-TV | 3,803,492 | 3,803,492 | 29,808
34195 | WKMJ-TV | 1,426,739 | 1,417,865 | 11,112
34202 | WKMR | 463,316 | 428,462 | 3,358
34174 | WKMU | 329,306 | 328,918 | 2,578
42061 | WKNO | 1,645,867 | 1,642,092 | 12,869
83931 | WKNX-TV | 1,684,178 | 1,459,493 | 11,438
34205 | WKOH | 550,854 | 547,801 | 4,293
67869 | WKOI-TV | 3,660,544 | 3,646,874 | 28,581
34211 | WKON | 905,003 | 895,953 | 7,022
18267 | WKOP-TV | 1,555,654 | 1,382,098 | 10,832
64545 | WKOW | 1,918,224 | 1,899,746 | 14,888
21432 | WKPC-TV | 1,489,989 | 1,481,948 | 11,614
65758 | WKPD | 242,844 | 241,796 | 1,895
34200 | WKPI-TV | 469,081 | 408,968 | 3,205
27504 | WKPT-TV | 1,131,213 | 887,806 | 6,958
58341 | WKPV | 1,132,932 | 879,902 | 4,706
11289 | WKRC-TV | 3,281,914 | 3,229,223 | 25,307
73187 | WKRG-TV | 1,526,600 | 1,526,075 | 11,960
73188 | WKRN-TV | 2,410,573 | 2,388,802 | 18,721
34222 | WKSO-TV | 586,871 | 573,741 | 4,496
40902 | WKTC | 1,386,422 | 1,385,850 | 10,861
60654 | WKTV | 1,573,503 | 1,342,387 | 10,520
73195 | WKYC | 4,154,903 | 4,099,508 | 32,128
24914 | WKYT-TV | 1,174,615 | 1,156,978 | 9,067
71861 | WKYU-TV | 411,448 | 409,310 | 3,208
34181 | WKZT-TV | 957,158 | 927,375 | 7,268
18819 | WLAE-TV | 1,397,967 | 1,397,967 | 10,956
36533 | WLAJ | 1,865,669 | 1,858,982 | 14,569
2710 | WLAX | 513,319 | 488,216 | 3,826
68542 | WLBT | 948,671 | 947,857 | 7,428
39644 | WLBZ | 373,129 | 364,346 | 2,855
69328 | WLED-TV | 338,110 | 159,958 | 1,254
63046 | WLEF-TV | 192,283 | 191,149 | 1,498
73203 | WLEX-TV | 969,543 | 964,107 | 7,556
37806 | WLFB | 808,036 | 680,534 | 5,333
37808 | WLFG | 1,614,321 | 1,282,063 | 10,048
73204 | WLFI-TV | 2,243,009 | 2,221,313 | 17,408
73205 | WLFL | 3,640,360 | 3,636,542 | 28,500
11113 | WLGA | 950,018 | 943,236 | 7,392
19777 | WLII-DT | 2,801,102 | 2,591,533 | 16,877
37503 | WLIO * | 1,067,232 | 1,050,170 | 8,230
38336 | WLIW | 14,117,756 | 13,993,724 | 109,669
27696 | WLJC-TV * | 1,401,072 | 1,281,256 | 10,041
71645 | WLJT-DT | 385,493 | 385,380 | 3,020
53939 | WLKY | 1,854,829 | 1,847,195 | 14,476
11033 | WLLA | 2,041,934 | 2,041,852 | 16,002
17076 | WLMB | 2,754,484 | 2,747,490 | 21,532
68518 | WLMT | 1,736,552 | 1,733,496 | 13,585
22591 | WLNE-TV | 5,705,441 | 5,630,394 | 44,125
74420 | WLNS-TV | 1,865,669 | 1,858,982 | 14,569
73206 | WLNY-TV | 7,501,199 | 7,415,578 | 58,116
84253 | WLOO | 913,960 | 912,674 | 7,153
56537 | WLOS * | 3,086,751 | 2,544,360 | 19,940
37732 | WLOV-TV | 609,526 | 607,780 | 4,763
13995 | WLOX | 1,182,149 | 1,170,659 | 9,174
38586 | WLPB-TV | 1,219,624 | 1,219,407 | 9,556
73189 | WLPX-TV | 1,021,171 | 921,974 | 7,226
66358 | WLRN-TV | 5,447,399 | 5,447,399 | 42,691
73226 | WLS-TV | 10,174,464 | 10,170,757 | 79,708
73230 | WLTV-DT | 5,427,398 | 5,427,398 | 42,535
37176 | WLTX | 1,580,677 | 1,578,645 | 12,372
37179 | WLTZ | 689,521 | 685,358 | 5,371
21259 | WLUC-TV | 92,246 | 85,393 | 669
4150 | WLUK-TV | 1,251,563 | 1,247,463 | 9,776
73238 | WLVI | 7,319,659 | 7,236,210 | 56,710
36989 | WLVT-TV * | 10,613,847 | 9,474,797 | 74,254
3978 | WLWC | 3,281,532 | 3,150,875 | 24,693
46979 | WLWT | 3,319,556 | 3,302,292 | 25,880
54452 | WLXI | 4,021,948 | 4,004,902 | 31,386
55350 | WLYH | 2,829,585 | 2,367,000 | 18,550
43192 | WMAB-TV | 407,794 | 401,487 | 3,146
43170 | WMAE-TV | 653,542 | 625,084 | 4,899
43197 | WMAH-TV | 1,257,393 | 1,256,995 | 9,851
43176 | WMAO-TV | 369,696 | 369,343 | 2,895
47905 | WMAQ-TV | 9,914,395 | 9,913,272 | 77,690
59442 | WMAR-TV | 9,203,498 | 9,065,260 | 71,044
43184 | WMAU-TV | 642,328 | 636,504 | 4,988
43193 | WMAV-TV | 1,008,339 | 1,008,208 | 7,901
43169 | WMAW-TV | 732,079 | 718,446 | 5,630
46991 | WMAZ-TV | 1,185,678 | 1,136,616 | 8,908
66398 | WMBB | 935,027 | 914,607 | 7,168
43952 | WMBC-TV | 18,706,132 | 18,458,331 | 144,658
42121 | WMBD-TV | 733,039 | 732,987 | 5,744
83969 | WMBF-TV | 445,363 | 445,363 | 3,490
60829 | WMCF-TV | 593,205 | 589,513 | 4,620
9739 | WMCN-TV | 10,379,045 | 9,982,651 | 78,234
19184 | WMC-TV | 2,047,403 | 2,043,125 | 16,012
189357 | WMDE | 6,384,827 | 6,257,910 | 49,043
73255 | WMDN | 278,227 | 278,018 | 2,179
16455 | WMDT | 731,931 | 731,931 | 5,736
39656 | WMEA-TV | 774,785 | 746,033 | 5,847
39648 | WMEB-TV | 511,761 | 494,574 | 3,876
70537 | WMEC | 217,940 | 217,671 | 1,706
39649 | WMED-TV | 30,488 | 29,577 | 232
39662 | WMEM-TV | 71,700 | 69,981 | 548
41893 | WMFD-TV | 1,561,367 | 1,324,244 | 10,378
41436 | WMFP | 5,792,048 | 5,564,295 | 43,607
61111 | WMGM-TV | 807,797 | 807,797 | 6,331
43847 | WMGT-TV | 601,894 | 601,309 | 4,712
73263 | WMHT | 1,622,458 | 1,472,559 | 11,540
68545 | WMLW-TV | 1,822,297 | 1,822,217 | 14,281
53819 | WMOR-TV | 5,386,517 | 5,386,358 | 42,213
81503 | WMOW | 121,150 | 106,115 | 832
65944 | WMPB | 6,489,215 | 6,375,063 | 49,961
43168 | WMPN-TV | 856,237 | 854,089 | 6,693
65942 | WMPT | 7,945,122 | 7,905,666 | 61,957
60827 | WMPV-TV | 1,395,611 | 1,395,036 | 10,933
10221 | WMSN-TV | 1,579,847 | 1,567,031 | 12,281
2174 | WMTJ | 3,143,148 | 2,846,339 | 18,537
6870 | WMTV | 1,548,616 | 1,545,459 | 12,112
73288 | WMTW | 1,940,292 | 1,658,816 | 13,000
23935 | WMUM-TV | 862,740 | 859,204 | 6,734
73292 | WMUR-TV | 5,192,179 | 5,003,980 | 39,216
42663 | WMVS * | 3,172,534 | 3,112,231 | 24,391
42665 | WMVT * | 3,172,534 | 3,112,231 | 24,391
81946 | WMWC-TV | 946,858 | 916,989 | 7,186
56548 | WMYA-TV | 1,577,439 | 1,516,026 | 11,881
74211 | WMYD | 5,750,989 | 5,750,873 | 45,070
20624 | WMYT-TV | 4,432,745 | 4,301,117 | 33,708
25544 | WMYV | 3,808,852 | 3,786,057 | 29,671
73310 | WNAB | 2,072,197 | 2,059,474 | 16,140
73311 | WNAC-TV | 7,310,183 | 6,959,064 | 54,538
47535 | WNBC | 20,072,714 | 19,699,252 | 154,383
83965 | WNBW-DT | 633,243 | 631,197 | 4,947
72307 | WNCF | 667,683 | 665,950 | 5,219
50782 | WNCN * | 3,795,494 | 3,783,131 | 29,648
57838 | WNCT-TV | 1,933,527 | 1,879,655 | 14,731
41674 | WNDU-TV | 1,807,909 | 1,783,617 | 13,978
28462 | WNDY-TV | 2,912,963 | 2,855,253 | 22,377
71928 | WNED-TV | 1,364,333 | 1,349,085 | 10,573
60931 | WNEH | 1,261,482 | 1,255,218 | 9,837
41221 | WNEM-TV | 1,617,082 | 1,612,561 | 12,638
49439 | WNEO | 3,151,964 | 3,105,545 | 24,338
73318 | WNEP-TV | 3,131,848 | 2,484,949 | 19,475
18795 | WNET | 20,826,756 | 20,387,649 | 159,778
51864 | WNEU | 3,471,700 | 3,354,177 | 26,287
23942 | WNGH-TV | 3,715,479 | 3,482,438 | 27,292
67802 | WNIN | 883,322 | 865,128 | 6,780
41671 | WNIT | 1,298,159 | 1,298,159 | 10,174
48457 | WNJB * | 20,787,272 | 20,036,393 | 157,025
48477 | WNJN * | 20,787,272 | 20,036,393 | 157,025
48481 | WNJS | 7,211,292 | 7,176,711 | 56,244
48465 | WNJT | 7,211,292 | 7,176,711 | 56,244
73333 | WNJU | 21,952,082 | 21,399,204 | 167,706
73336 | WNJX-TV | 1,585,248 | 1,383,235 | 2,398
61217 | WNKY | 385,619 | 383,911 | 3,009
71905 | WNLO | 1,538,108 | 1,502,969 | 11,779
4318 | WNMU | 181,730 | 177,763 | 1,393
73344 | WNNE | 792,551 | 676,539 | 5,302
54280 | WNOL-TV | 1,632,389 | 1,632,389 | 12,793
71676 | WNPB-TV | 1,578,317 | 1,446,630 | 11,337
62137 | WNPI-DT | 167,931 | 161,748 | 1,268
41398 | WNPT | 2,260,463 | 2,227,570 | 17,457
28468 | WNPX-TV | 2,216,131 | 2,209,662 | 17,317
61009 | WNSC-TV | 2,072,821 | 2,067,933 | 16,206
61010 | WNTV | 2,419,841 | 2,211,019 | 17,328
16539 | WNTZ-TV | 344,704 | 343,849 | 2,695
7933 | WNUV | 9,098,694 | 8,906,508 | 69,800
9999 | WNVC | 723,698 | 490,045 | 3,840
10019 | WNVT | 1,582,094 | 1,581,725 | 12,396
73354 | WNWO-TV | 2,232,660 | 2,232,660 | 17,497
136751 | WNYA | 1,540,430 | 1,406,032 | 11,019
30303 | WNYB * | 1,785,269 | 1,756,096 | 13,763
6048 | WNYE-TV | 19,185,983 | 19,015,910 | 149,028
34329 | WNYI | 1,627,542 | 1,338,811 | 10,492
67784 | WNYO-TV | 1,539,525 | 1,499,591 | 11,752
58725 | WNYS-TV | 1,690,696 | 1,445,505 | 11,328
73363 | WNYT * | 1,679,494 | 1,516,775 | 11,887
22206 | WNYW | 20,075,874 | 19,753,060 | 154,805
69618 | WOAI-TV | 2,525,811 | 2,513,887 | 19,701
66804 | WOAY-TV | 569,330 | 416,995 | 3,268
41225 | WOFL | 3,941,895 | 3,938,046 | 30,862
70651 | WOGX | 1,112,408 | 1,112,408 | 8,718
8661 | WOI-DT * | 1,173,757 | 1,170,432 | 9,173
39746 | WOIO | 3,821,233 | 3,745,335 | 29,352
71725 | WOLE-DT *¹ | 2,503,603 | 947,174 | 7,423
73375 | WOLF-TV | 3,006,606 | 2,425,396 | 19,008
60963 | WOLO-TV | 2,635,115 | 2,590,158 | 20,299
36838 | WOOD-TV | 2,507,053 | 2,501,084 | 19,601
67602 | WOPX-TV | 3,826,498 | 3,826,259 | 29,986
64865 | WORA-TV | 2,733,629 | 2,586,149 | 2,893
73901 | WORO-DT * | 3,243,301 | 3,022,553 | 20,711
60357 | WOST | 1,193,381 | 1,027,391 | 6,691
66185 | WOSU-TV | 2,649,515 | 2,617,817 | 20,516
131 | WOTF-TV | 3,288,537 | 3,288,535 | 25,772
10212 | WOTV | 2,277,566 | 2,277,258 | 17,847
50147 | WOUB-TV | 756,762 | 734,988 | 5,760
50141 | WOUC-TV | 1,713,515 | 1,649,853 | 12,930
23342 | WOWK-TV * | 1,159,175 | 1,082,354 | 8,482
65528 | WOWT | 1,380,979 | 1,377,287 | 10,794
31570 | WPAN | 637,347 | 637,347 | 4,995
4190 | WPBA | 5,217,180 | 5,200,958 | 40,760
51988 | WPBF | 3,190,307 | 3,186,405 | 24,972
21253 | WPBN-TV | 411,213 | 394,778 | 3,094
62136 | WPBS-DT | 338,448 | 301,692 | 2,364
13456 | WPBT | 5,416,604 | 5,416,604 | 42,450
13924 | WPCB-TV | 2,934,614 | 2,800,516 | 21,948
64033 | WPCH-TV | 5,948,778 | 5,874,163 | 46,036
4354 | WPCT | 195,270 | 194,869 | 1,527
69880 | WPCW | 3,393,365 | 3,188,441 | 24,988
17012 | WPDE-TV | 1,764,645 | 1,762,758 | 13,815
52527 | WPEC | 5,788,448 | 5,788,448 | 45,364
84088 | WPFO | 1,329,690 | 1,209,873 | 9,482
54728 | WPGA-TV | 559,495 | 559,004 | 4,381
60820 | WPGD-TV | 2,355,629 | 2,343,715 | 18,368
73875 | WPGH-TV | 3,132,507 | 3,007,511 | 23,570
2942 | WPGX | 425,098 | 422,872 | 3,314
73879 | WPHL-TV | 10,421,216 | 10,246,856 | 80,305
73881 | WPIX | 20,638,932 | 20,213,158 | 158,411
53113 | WPLG | 5,587,129 | 5,587,129 | 43,786
11906 | WPMI-TV | 1,467,869 | 1,467,462 | 11,500
10213 | WPMT | 2,412,561 | 2,191,501 | 17,175
18798 | WPNE-TV | 1,132,868 | 1,132,699 | 8,877
73907 | WPNT | 3,130,920 | 3,010,828 | 23,596
28480 | WPPT * | 10,613,847 | 9,474,797 | 74,254
51984 | WPPX-TV | 8,206,117 | 7,995,941 | 62,664
47404 | WPRI-TV | 7,254,721 | 6,990,606 | 54,785
51991 | WPSD-TV | 883,812 | 878,287 | 6,883
12499 | WPSG | 10,232,988 | 9,925,334 | 77,785
66219 | WPSU-TV | 1,055,133 | 868,013 | 6,803
73905 | WPTA | 1,099,180 | 1,099,180 | 8,614
25067 | WPTD | 3,423,417 | 3,415,232 | 26,765
25065 | WPTO | 2,912,159 | 2,893,581 | 22,677
59443 | WPTV-TV | 5,840,102 | 5,840,102 | 45,769
57476 | WPTZ | 792,551 | 676,539 | 5,302
8616 | WPVI-TV * | 11,491,587 | 11,302,701 | 88,579
48772 | WPWR-TV | 9,957,301 | 9,954,828 | 78,016
51969 | WPXA-TV | 6,587,205 | 6,458,510 | 50,615
71236 | WPXC-TV | 1,561,014 | 1,561,014 | 12,234
5800 | WPXD-TV | 5,133,364 | 5,133,257 | 40,229
37104 | WPXE-TV | 3,163,550 | 3,160,601 | 24,770
48406 | WPXG-TV | 2,577,848 | 2,512,150 | 19,688
73312 | WPXH-TV | 1,495,968 | 1,423,805 | 11,158
73910 | WPXI | 3,300,896 | 3,197,864 | 25,062
2325 | WPXJ-TV | 2,358,750 | 2,294,833 | 17,985
52628 | WPXK-TV | 1,801,997 | 1,577,806 | 12,365
21729 | WPXL-TV | 1,566,829 | 1,566,829 | 12,279
48608 | WPXM-TV | 5,153,621 | 5,153,621 | 40,389
73356 | WPXN-TV | 20,465,198 | 20,092,448 | 157,465
27290 | WPXP-TV | 5,565,072 | 5,565,072 | 43,613
50063 | WPXQ-TV | 3,281,532 | 3,150,875 | 24,693
70251 | WPXR-TV | 1,375,640 | 1,200,331 | 9,407
40861 | WPXS | 1,152,104 | 1,145,695 | 8,979
53065 | WPXT | 760,491 | 735,051 | 5,761
37971 | WPXU-TV | 690,613 | 690,613 | 5,412
67077 | WPXV-TV | 1,905,128 | 1,905,128 | 14,930
74091 | WPXW-TV | 8,091,469 | 8,044,165 | 63,042
21726 | WPXX-TV | 1,562,675 | 1,560,834 | 12,232
73319 | WQAD-TV | 1,079,594 | 1,066,743 | 8,360
65130 | WQCW | 1,319,392 | 1,249,533 | 9,793
71561 | WQEC | 183,969 | 183,690 | 1,440
41315 | WQED | 3,529,305 | 3,426,684 | 26,855
3255 | WQHA | 1,052,107 | 879,558 | 5,728
60556 | WQHS-DT | 3,996,567 | 3,952,672 | 30,977
53716 | WQLN | 602,212 | 571,790 | 4,481
52075 | WQMY | 410,269 | 254,586 | 1,995
64550 | WQOW | 369,066 | 358,576 | 2,810
5468 | WQPT-TV | 595,685 | 595,437 | 4,666
64690 | WQPX-TV | 1,644,283 | 1,212,587 | 9,503
52408 | WQRF-TV | 1,326,695 | 1,305,762 | 10,233
2175 | WQTO | 2,864,201 | 1,923,424 | 12,526
8688 | WRAL-TV | 3,643,511 | 3,639,448 | 28,522
10133 | WRAY-TV | 4,021,948 | 4,004,902 | 31,386
64611 | WRAZ | 3,605,228 | 3,601,029 | 28,221
136749 | WRBJ-TV | 1,030,831 | 1,028,010 | 8,057
3359 | WRBL | 1,493,140 | 1,461,459 | 11,453
57221 | WRBU | 2,737,188 | 2,734,806 | 21,433
54940 | WRBW | 4,025,123 | 4,023,804 | 31,535
59137 | WRCB | 1,587,742 | 1,363,582 | 10,686
47904 | WRC-TV | 8,188,601 | 8,146,696 | 63,846
54963 | WRDC | 3,624,288 | 3,620,526 | 28,374
55454 | WRDQ | 3,931,023 | 3,931,023 | 30,807
73937 | WRDW-TV | 1,564,584 | 1,533,682 | 12,019
66174 | WREG-TV | 1,642,307 | 1,638,585 | 12,842
61011 | WRET-TV | 2,419,841 | 2,211,019 | 17,328
73940 | WREX | 2,303,027 | 2,047,951 | 16,050
54443 | WRFB | 2,674,527 | 2,377,106 | 15,481
73942 | WRGB * | 1,757,575 | 1,645,483 | 12,896
411 | WRGT-TV | 3,252,046 | 3,219,309 | 25,230
74416 | WRIC-TV | 1,996,265 | 1,939,664 | 15,201
61012 | WRJA-TV | 1,127,088 | 1,119,936 | 8,777
412 | WRLH-TV | 2,017,508 | 1,959,111 | 15,354
61013 | WRLK-TV | 1,229,094 | 1,228,616 | 9,629
43870 | WRLM | 3,919,602 | 3,892,146 | 30,503
74156 | WRNN-TV | 19,853,836 | 19,615,370 | 153,726
73964 | WROC-TV | 1,203,412 | 1,185,203 | 9,288
159007 | WRPT | 110,009 | 109,937 | 862
20590 | WRPX-TV | 2,637,949 | 2,634,141 | 20,644
62009 | WRSP-TV | 904,190 | 902,682 | 7,074
40877 | WRTV | 2,919,683 | 2,895,164 | 22,689
15320 | WRUA | 2,905,193 | 2,552,782 | 16,625
71580 | WRXY-TV | 1,633,655 | 1,633,655 | 12,803
48662 | WSAV-TV | 1,000,315 | 1,000,309 | 7,839
6867 | WSAW-TV | 652,442 | 646,386 | 5,066
36912 | WSAZ-TV | 1,184,629 | 1,119,859 | 8,776
56092 | WSBE-TV | 4,627,829 | 4,531,067 | 35,510
73982 | WSBK-TV | 7,161,406 | 7,095,363 | 55,606
72053 | WSBS-TV | 42,952 | 42,952 | 337
73983 | WSBT-TV | 1,691,194 | 1,682,136 | 13,183
23960 | WSB-TV | 5,893,810 | 5,818,626 | 45,601
69446 | WSCG | 867,516 | 867,490 | 6,799
64971 | WSCV | 5,465,435 | 5,465,435 | 42,833
70536 | WSEC | 522,349 | 521,730 | 4,089
49711 | WSEE-TV | 613,176 | 595,476 | 4,667
21258 | WSES | 1,548,117 | 1,513,982 | 11,865
73988 | WSET-TV | 1,569,722 | 1,323,180 | 10,370
13993 | WSFA | 1,168,636 | 1,133,724 | 8,885
11118 | WSFJ-TV | 1,675,987 | 1,667,150 | 13,065
10203 | WSFL-TV | 5,344,129 | 5,344,129 | 41,882
72871 | WSFX-TV | 928,247 | 928,247 | 7,275
73999 | WSIL-TV | 672,560 | 669,176 | 5,244
4297 | WSIU-TV * | 1,019,939 | 937,070 | 7,344
74007 | WSJV | 1,522,499 | 1,522,499 | 11,932
78908 | WSKA | 546,588 | 431,354 | 3,381
74034 | WSKG-TV | 892,439 | 624,282 | 4,892
76324 | WSKY-TV | 1,934,585 | 1,934,519 | 15,161
57840 | WSLS-TV | 1,447,286 | 1,277,753 | 10,014
21737 | WSMH | 2,339,224 | 2,327,660 | 18,242
41232 | WSMV-TV | 2,447,769 | 2,404,766 | 18,846
70119 | WSNS-TV | 9,914,395 | 9,913,272 | 77,690
74070 | WSOC-TV | 3,706,808 | 3,638,832 | 28,518
66391 | WSPA-TV | 3,393,072 | 3,237,713 | 25,374
64352 | WSPX-TV | 1,298,295 | 1,174,763 | 9,207
17611 | WSRE | 1,355,168 | 1,354,307 | 10,614
63867 | WSST-TV | 331,907 | 331,601 | 2,599
60341 | WSTE-DT | 3,723,967 | 3,631,985 | 23,653
21252 | WSTM-TV | 1,458,931 | 1,382,417 | 10,834
11204 | WSTR-TV | 3,252,460 | 3,243,267 | 25,417
19776 | WSUR-DT *² | 3,714,790 | 947,174 | 7,423
2370 | WSVI | 50,601 | 50,601 | 397
63840 | WSVN | 5,588,748 | 5,588,748 | 43,799
73374 | WSWB | 1,530,002 | 1,102,316 | 8,639
28155 | WSWG | 381,004 | 380,910 | 2,985
71680 | WSWP-TV | 858,726 | 659,416 | 5,168
74094 | WSYM-TV | 1,516,677 | 1,516,390 | 11,884
73113 | WSYR-TV | 1,329,933 | 1,243,035 | 9,742
40758 | WSYT | 1,878,638 | 1,640,666 | 12,858
56549 | WSYX | 2,635,937 | 2,584,043 | 20,251
65681 | WTAE-TV | 2,995,755 | 2,860,979 | 22,421
23341 | WTAJ-TV | 1,187,718 | 948,598 | 7,434
4685 | WTAP-TV | 472,761 | 451,414 | 3,538
416 | WTAT-TV | 1,153,279 | 1,153,279 | 9,038
67993 | WTBY-TV | 15,858,470 | 15,766,438 | 123,562
29715 | WTCE-TV | 2,620,599 | 2,620,599 | 20,538
65667 | WTCI | 1,204,613 | 1,099,395 | 8,616
67786 | WTCT | 584,661 | 584,006 | 4,577
28954 | WTCV | 3,254,481 | 3,008,658 | 19,594
74422 | WTEN | 1,902,431 | 1,613,747 | 12,647
9881 | WTGL | 3,772,425 | 3,772,425 | 29,564
27245 | WTGS | 967,792 | 967,630 | 7,583
70655 | WTHI-TV | 928,934 | 886,846 | 6,950
70162 | WTHR * | 2,949,339 | 2,901,633 | 22,740
147 | WTIC-TV | 5,318,753 | 4,707,697 | 36,894
26681 | WTIN-TV | 3,714,547 | 3,487,634 | 2,398
66536 | WTIU | 1,131,685 | 1,131,161 | 8,865
1002 | WTJP-TV | 1,947,743 | 1,907,300 | 14,948
4593 | WTJR | 334,527 | 334,221 | 2,619
70287 | WTJX-TV | 135,017 | 121,498 | 952
47401 | WTKR | 2,142,272 | 2,142,084 | 16,788
82735 | WTLF | 349,696 | 349,691 | 2,741
23486 | WTLH | 1,038,086 | 1,038,086 | 8,135
67781 | WTLJ | 1,622,365 | 1,621,227 | 12,706
65046 | WTLV | 1,757,600 | 1,739,021 | 13,629
1222 | WTLW | 1,646,714 | 1,644,206 | 12,886
74098 | WTMJ-TV | 3,010,678 | 2,995,959 | 23,479
74109 | WTNH | 7,845,782 | 7,332,431 | 57,464
19200 | WTNZ | 1,699,427 | 1,513,754 | 11,863
590 | WTOC-TV | 993,098 | 992,658 | 7,779
74112 | WTOG | 4,796,964 | 4,796,188 | 37,588
4686 | WTOK-TV | 410,134 | 404,555 | 3,170
13992 | WTOL | 4,184,020 | 4,174,198 | 32,713
21254 | WTOM-TV | 83,379 | 81,092 | 636
74122 | WTOV-TV | 3,892,886 | 3,619,899 | 28,369
82574 | WTPC-TV * | 2,049,246 | 2,042,851 | 16,010
86496 | WTPX-TV | 255,972 | 255,791 | 2,005
6869 | WTRF-TV | 2,941,511 | 2,565,375 | 20,105
67798 | WTSF | 593,934 | 552,040 | 4,326
11290 | WTSP * | 5,511,840 | 5,494,925 | 43,064
4108 | WTTA | 5,450,070 | 5,446,811 | 42,687
74137 | WTTE | 2,636,341 | 2,591,715 | 20,311
22207 | WTTG | 8,070,491 | 8,015,328 | 62,816
56526 | WTTK | 2,817,698 | 2,794,018 | 21,897
74138 | WTTO | 1,817,151 | 1,786,516 | 14,001
56523 | WTTV | 2,362,145 | 2,359,408 | 18,491
10802 | WTTW | 9,729,982 | 9,729,634 | 76,251
74148 | WTVA | 717,035 | 709,726 | 5,562
22590 | WTVC | 1,579,628 | 1,366,976 | 10,713
8617 | WTVD * | 3,793,909 | 3,778,802 | 29,614
55305 | WTVE | 5,156,905 | 5,152,997 | 40,384
36504 | WTVF | 2,416,110 | 2,397,634 | 18,790
74150 | WTVG | 4,274,274 | 4,263,894 | 33,416
74151 | WTVH | 1,350,223 | 1,275,171 | 9,994
10645 | WTVI | 2,853,540 | 2,824,869 | 22,138
63154 | WTVJ | 5,458,451 | 5,458,451 | 42,778
595 | WTVM | 1,498,667 | 1,405,957 | 11,018
72945 | WTVO | 1,409,708 | 1,398,825 | 10,963
28311 | WTVP | 679,017 | 678,672 | 5,319
51597 | WTVQ-DT | 989,180 | 982,298 | 7,698
57832 | WTVR-TV | 1,808,516 | 1,802,164 | 14,124
16817 | WTVS | 5,511,639 | 5,511,255 | 43,192
68569 | WTVT | 5,475,385 | 5,462,416 | 42,809
3661 | WTVW | 791,430 | 789,720 | 6,189
35575 | WTVX | 3,157,609 | 3,157,609 | 24,746
4152 | WTVY | 974,532 | 971,173 | 7,611
40759 | WTVZ-TV | 2,156,534 | 2,156,346 | 16,899
66908 | WTWC-TV | 1,032,942 | 1,032,942 | 8,095
20426 | WTWO | 737,757 | 731,769 | 5,735
81692 | WTWV | 1,527,511 | 1,526,625 | 11,964
51568 | WTXF-TV | 10,784,256 | 10,492,549 | 82,230
41065 | WTXL-TV | 1,054,514 | 1,054,322 | 8,263
8532 | WUAB | 3,821,233 | 3,745,335 | 29,352
12855 | WUCF-TV | 3,772,425 | 3,772,425 | 29,564
36395 | WUCW | 3,664,480 | 3,657,236 | 28,662
69440 | WUFT | 1,372,142 | 1,372,142 | 10,753
413 | WUHF | 1,152,580 | 1,147,972 | 8,997
8156 | WUJA | 2,638,361 | 2,379,555 | 15,497
69080 | WUNC-TV | 4,021,948 | 4,004,902 | 31,386
69292 | WUND-TV | 1,506,640 | 1,506,640 | 11,808
69114 | WUNE-TV | 1,931,274 | 1,527,025 | 11,967
69300 | WUNF-TV | 2,447,306 | 2,066,422 | 16,195
69124 | WUNG-TV | 3,267,425 | 3,253,352 | 25,497
60551 | WUNI | 7,209,571 | 7,084,349 | 55,520
69332 | WUNJ-TV | 1,081,274 | 1,081,274 | 8,474
69149 | WUNK-TV | 2,018,916 | 2,013,516 | 15,780
69360 | WUNL-TV | 2,614,031 | 2,545,330 | 19,948
69444 | WUNM-TV | 1,029,109 | 1,029,109 | 8,065
69397 | WUNP-TV | 1,018,414 | 1,009,833 | 7,914
69416 | WUNU | 1,120,792 | 1,117,140 | 8,755
83822 | WUNW | 1,109,237 | 570,072 | 4,468
6900 | WUPA | 5,946,477 | 5,865,122 | 45,965
13938 | WUPL | 1,632,100 | 1,632,100 | 12,791
10897 | WUPV | 1,933,664 | 1,914,643 | 15,005
19190 | WUPW | 2,074,890 | 2,073,548 | 16,250
23128 | WUPX-TV | 1,102,435 | 1,089,118 | 8,535
65593 | WUSA * | 8,750,706 | 8,446,074 | 66,192
4301 | WUSI-TV | 304,747 | 304,747 | 2,388
60552 | WUTB | 8,509,757 | 8,339,882 | 65,360
30577 | WUTF-TV | 8,557,497 | 8,242,833 | 64,599
57837 | WUTR | 526,114 | 481,957 | 3,777
415 | WUTV | 1,405,230 | 1,380,902 | 10,822
16517 | WUVC-DT | 3,768,817 | 3,748,841 | 29,380
48813 | WUVG-DT | 6,029,495 | 5,965,975 | 46,755
3072 | WUVN | 1,233,568 | 1,157,140 | 9,069
60560 | WUVP-DT | 10,421,216 | 10,246,856 | 80,305
9971 | WUXP-TV | 2,316,872 | 2,305,293 | 18,067
417 | WVAH-TV | 1,373,707 | 1,300,402 | 10,191
23947 | WVAN-TV | 979,764 | 978,920 | 7,672
65387 | WVBT | 1,848,277 | 1,848,277 | 14,485
72342 | WVCY-TV | 2,543,642 | 2,542,235 | 19,923
60559 | WVEA-TV | 4,283,915 | 4,283,854 | 33,573
74167 | WVEC * | 2,096,709 | 2,090,875 | 16,386
5802 | WVEN-TV | 3,607,540 | 3,607,540 | 28,272
61573 | WVEO | 1,153,382 | 916,310 | 4,706
69946 | WVER | 760,072 | 579,703 | 4,543
10976 | WVFX | 731,193 | 609,763 | 4,779
47929 | WVIA-TV | 3,131,848 | 2,484,949 | 19,475
3667 | WVII-TV | 368,022 | 346,874 | 2,718
70309 | WVIR-TV | 1,944,353 | 1,801,429 | 14,118
74170 | WVIT | 5,846,093 | 5,357,639 | 41,988
18753 | WVIZ | 3,695,223 | 3,689,173 | 28,912
70021 | WVLA-TV | 1,897,179 | 1,897,007 | 14,867
81750 | WVLR | 1,412,728 | 1,292,471 | 10,129
35908 | WVLT-TV | 1,888,607 | 1,633,633 | 12,803
74169 | WVNS-TV | 911,630 | 606,820 | 4,756
11259 | WVNY | 721,176 | 620,257 | 4,861
29000 | WVOZ-TV | 1,132,932 | 879,902 | 4,706
71657 | WVPB-TV | 780,268 | 752,747 | 5,899
60111 | WVPT * | 756,714 | 632,580 | 4,958
70491 | WVPX-TV | 4,147,298 | 4,114,920 | 32,249
66378 | WVPY * | 756,202 | 632,155 | 4,954
67190 | WVSN | 2,948,832 | 2,572,001 | 16,750
69943 | WVTA | 760,072 | 579,703 | 4,543
69940 | WVTB | 454,244 | 258,422 | 2,025
74173 | WVTM-TV | 1,876,825 | 1,790,198 | 14,030
74174 | WVTV | 2,999,694 | 2,990,991 | 23,440
77496 | WVUA | 2,209,921 | 2,160,101 | 16,929
4149 | WVUE-DT | 1,658,125 | 1,658,125 | 12,995
4329 | WVUT | 273,293 | 273,219 | 2,141
74176 | WVVA | 1,035,752 | 693,707 | 5,437
3113 | WVXF | 85,191 | 78,556 | 616
12033 | WWAY | 1,206,281 | 1,206,281 | 9,454
30833 | WWBT | 1,911,854 | 1,872,305 | 14,673
20295 | WWCP-TV | 2,811,278 | 2,548,691 | 19,974
24812 | WWCW | 1,390,985 | 1,212,308 | 9,501
23671 | WWDP | 5,792,048 | 5,564,295 | 43,607
21158 | WWHO | 2,879,726 | 2,805,564 | 21,987
14682 | WWJE-DT | 7,209,571 | 7,084,349 | 55,520
72123 | WWJ-TV | 5,374,064 | 5,373,712 | 42,114
166512 | WWJX | 518,866 | 518,846 | 4,066
6868 | WWLP | 3,838,272 | 3,077,800 | 24,121
74192 | WWL-TV | 1,756,442 | 1,756,442 | 13,765
3133 | WWMB | 1,460,406 | 1,458,374 | 11,429
74195 | WWMT | 2,460,942 | 2,455,432 | 19,243
68851 | WWNY-TV | 365,677 | 341,029 | 2,673
74197 | WWOR-TV | 19,853,836 | 19,615,370 | 153,726
65943 | WWPB | 2,015,352 | 1,691,003 | 13,252
23264 | WWPX-TV | 3,892,904 | 3,196,922 | 25,054
68547 | WWRS-TV | 2,235,958 | 2,212,123 | 17,336
61251 | WWSB | 3,340,133 | 3,340,133 | 26,177
23142 | WWSI | 11,269,831 | 11,098,540 | 86,979
16747 | WWTI | 196,531 | 190,097 | 1,490
998 | WWTO-TV | 5,541,816 | 5,541,816 | 43,431
26994 | WWTV | 1,034,174 | 1,022,322 | 8,012
84214 | WWTW | 1,527,511 | 1,526,625 | 11,964
26993 | WWUP-TV | 116,638 | 110,592 | 867
23338 | WXBU | 4,030,693 | 3,538,096 | 27,728
61504 | WXCW | 1,749,847 | 1,749,847 | 13,714
61084 | WXEL-TV | 5,416,604 | 5,416,604 | 42,450
60539 | WXFT-DT | 10,174,464 | 10,170,757 | 79,708
23929 | WXGA-TV | 608,494 | 606,801 | 4,755
51163 | WXIA-TV | 6,179,680 | 6,035,828 | 47,303
53921 | WXII-TV | 3,630,551 | 3,299,114 | 25,855
146 | WXIN | 2,721,639 | 2,699,366 | 21,155
39738 | WXIX-TV | 2,825,570 | 2,797,385 | 21,923
414 | WXLV-TV | 4,362,761 | 4,333,737 | 33,963
68433 | WXMI | 1,988,970 | 1,988,589 | 15,585
64549 | WXOW | 425,378 | 413,264 | 3,239
6601 | WXPX-TV | 4,566,037 | 4,564,088 | 35,769
74215 | WXTV-DT | 19,992,096 | 19,643,518 | 153,946
12472 | WXTX | 699,095 | 694,837 | 5,445
11970 | WXXA-TV * | 1,680,670 | 1,546,103 | 12,117
57274 | WXXI-TV | 1,178,402 | 1,163,073 | 9,115
53517 | WXXV-TV | 1,201,440 | 1,199,901 | 9,404
10267 | WXYZ-TV | 5,591,434 | 5,590,748 | 43,815
12279 | WYCC | 9,729,982 | 9,729,634 | 76,251
77515 | WYCI | 35,873 | 26,508 | 208
70149 | WYCW | 3,393,072 | 3,237,713 | 25,374
62219 | WYDC | 393,843 | 262,013 | 2,053
18783 | WYDN | 2,577,848 | 2,512,150 | 19,688
35582 | WYDO | 1,097,745 | 1,097,745 | 8,603
25090 | WYES-TV | 1,872,245 | 1,872,059 | 14,671
53905 | WYFF | 2,626,363 | 2,416,551 | 18,939
49803 | WYIN | 6,956,141 | 6,956,141 | 54,515
24915 | WYMT-TV | 1,180,276 | 863,881 | 6,770
17010 | WYOU * | 2,879,196 | 2,221,179 | 17,407
77789 | WYOW | 91,233 | 90,799 | 712
13933 | WYPX-TV | 1,529,500 | 1,413,583 | 11,078
4693 | WYTV | 4,898,622 | 4,535,576 | 35,545
5875 | WYZZ-TV | 1,042,140 | 1,036,721 | 8,125
15507 | WZBJ | 1,606,844 | 1,439,716 | 11,283
28119 | WZDX | 1,557,490 | 1,452,851 | 11,386
70493 | WZME | 5,996,408 | 5,544,708 | 43,454
81448 | WZMQ | 73,423 | 72,945 | 572
71871 | WZPX-TV | 2,094,029 | 2,093,653 | 16,408
136750 | WZRB | 952,279 | 951,693 | 7,458
418 | WZTV | 2,311,143 | 2,299,730 | 18,023
83270 | WZVI | 76,992 | 75,863 | 595
19183 | WZVN-TV | 1,916,098 | 1,916,098 | 15,016
49713 | WZZM | 1,574,546 | 1,548,835 | 12,138
Note:The list of call signs above include all feeable and exempt entities. It is the responsibility of licensees to inform the Commission of any status changes. As stated in the FY 2020 Report and Order and Notice of Proposed Rulemaking, the fee of full-power television stations in Puerto Rico have been adjusted to reflect losses in population on the island since the 2010 U.S. Census.
* The call signs with an (*) denote VHF stations licensed with a power level that exceeds the maximum based on the maximum power level specified for channels 2-6 in 73.622(f)(6) and for channels 7-13 in 73.622(f)(7). The population counts have been adjusted accordingly.
¹ Call signs WOLE and WLII are stations in Puerto Rico that are linked together with a total fee of $24,300.
² Call signs WSUR and WLII are stations in Puerto Rico that are linked together with a total fee of $24,300.

IV. Initial Regulatory Flexibility Analysis

1. As required by the Regulatory Flexibility Act of 1980, as amended (RFA), the Commission prepared this Initial Regulatory Flexibility Analysis (IRFA) of the possible significant economic impact on small entities by the policies and rules proposed in the Notice of Proposed Rulemaking (Notice). Written comments are requested on this IRFA. Comments must be identified as responses to the IRFA and must be filed by the deadline for comments on this Notice. The Commission will send a copy of the Notice, including the IRFA, to the Chief Counsel for Advocacy of the Small Business Administration (SBA). In addition, the Notice and IRFA (or summaries thereof) will be published in the Federal Register.

2. Need for, and Objectives of, the Proposed Rules. The Notice seeks comment on regulatory fees for fiscal year (FY) 2020, as required by section 9 of the Communications Act of 1934, as amended (Communications Act or Act). The Notice sets forth the proposed regulatory fees for FY 2020 for regulatees in the Wireless Telecommunications Bureau, Media Bureau, Wireline Competition Bureau, and International Bureau. The proposed regulatory fees are attached to the Notice in Tables 1 and 2. This regulatory fee Notice is needed each year because the Commission is required by Congress to adopt regulatory fees each year “to recover the costs of carrying out the activities described in section 6(a) only to the extent, and in the total amounts, provided for in Appropriation Acts.” The objective of the Notice is to propose regulatory fees for FY 2020 and adopt regulatory fee reform to improve the regulatory fee process. The Notice seeks comment on the Commission's proposed regulatory fees for FY 2020. The Notice proposes to collect $339,000,000 in regulatory fees for FY 2020, as detailed in the proposed fee schedules in Tables 1 and 2, including a proposed increase in the DBS fee rate to 72 cents per subscriber and proposed fees for full-power broadcast televisions using the actual population covered by the station's contour, as set forth in Table 4. Historically, under our old methodology, the regulatory fee for full-power broadcast television stations was based on the DMA groupings 1-10, 11-25, 26-50, 51-100, and the remaining markets (101-210), as well as satellite stations that traditionally pay a much lower fee.

3. Legal Basis. This action, including publication of proposed rules, is authorized under sections (4)(i) and (j), 159, and 303(r) of the Communications Act of 1934, as amended.

4. Description and Estimate of the Number of Small Entities to Which the Proposed Rules Will Apply. The RFA directs agencies to provide a description of, and where feasible, an estimate of the number of small entities that may be affected by the proposed rules and policies, if adopted. The RFA generally defines the term “small entity” as having the same meaning as the terms “small business,” “small organization,” and “small governmental jurisdiction.” In addition, the term “small business” has the same meaning as the term “small business concern” under the Small Business Act. A “small business concern” is one which: (1) Is independently owned and operated; (2) is not dominant in its field of operation; and (3) satisfies any additional criteria established by the SBA.

5. Small Businesses, Small Organizations, Small Governmental Jurisdictions. Our actions, over time, may affect small entities that are not easily categorized at present. We therefore describe here, at the outset, three broad groups of small entities that could be directly affected herein. First, while there are industry specific size standards for small businesses that are used in the regulatory flexibility analysis, according to data from the SBA's Office of Advocacy, in general a small business is an independent business having fewer than 500 employees. These types of small businesses represent 99.9% of all businesses in the United States which translates to 28.8 million businesses.

6. Next, the type of small entity described as a “small organization” is generally “any not-for-profit enterprise which is independently owned and operated and is not dominant in its field.” Nationwide, as of August 2016, there were approximately 356,494 small organizations based on registration and tax data filed by nonprofits with the Internal Revenue Service (IRS).

7. Finally, the small entity described as a “small governmental jurisdiction” is defined generally as “governments of cities, counties, towns, townships, villages, school districts, or special districts, with a population of less than fifty thousand.” U.S. Census Bureau data from the 2012 Census of Governments indicate that there were 90,056 local governmental jurisdictions consisting of general purpose governments and special purpose governments in the United States. Of this number there were 37,132 General purpose governments (county, municipal and town or township) with populations of less than 50,000 and 12,184 Special purpose governments (independent school districts and special districts) with populations of less than 50,000. The 2012 U.S. Census Bureau data for most types of governments in the local government category show that the majority of these governments have populations of less than 50,000. Based on this data we estimate that at least 49,316 local government jurisdictions fall in the category of “small governmental jurisdictions.” Governmental entities are, however, exempt from application fees.

8. Description of Projected Reporting, Recordkeeping and Other Compliance Requirements for Small Entities. This Notice does not propose any changes to the Commission's current information collection, reporting, recordkeeping, or compliance requirements. Licensees, including small entities, will be required to pay application fees after such fees are adopted.

9. Steps Taken to Minimize Significant Economic Impact on Small Entities, and Significant Alternatives Considered. The RFA requires an agency to describe any significant alternatives that it has considered in reaching its approach, which may include the following four alternatives, among others: (1) The establishment of differing compliance or reporting requirements or timetables that take into account the resources available to small entities; (2) the clarification, consolidation, or simplification of compliance or reporting requirements under the rule for small entities; (3) the use of performance, rather than design, standards; and (4) an exemption from coverage of the rule, or any part thereof, for small entities

10. The Notice seeks comment on the Commission's proposed regulatory fees for FY 2020. The Notice proposes to collect $339,000,000 in regulatory fees for FY 2020, as detailed in the proposed fee schedules in Table 2, including an increase in the DBS fee rate to 72 cents per subscriber. DBS providers are not small entities. The Notice seeks comment on changing the methodology for assessing regulatory fees for full-power broadcast television stations to use the actual population to determine the regulatory fee. In addition, the Notice seeks comment on the schedule of regulatory fees for all Commission regulatees for FY 2020. The Commission's annual de minimis threshold of $1,000 was replaced last year with a new section 9(e)(2) annual regulatory fee exemption of $1,000; this regulatory fee exemption will reduce burdens on small entities with annual regulatory fees that total $1,000 or less.

A. Federal Rules That May Duplicate, Overlap, or Conflict With the Proposed Rules

11. None.

V. Ordering Clauses

12. Accordingly, it is ordered that, pursuant to the authority found in sections 4(i) and (j), 9, 9A, and 303(r) of the Communications Act of 1934, as amended, 47 U.S.C. 154(i), 154(j), 159, 159A, and 303(r), this Report and Order and Notice of Proposed Rulemaking is hereby adopted.

Federal Communications Commission.
Cecilia Sigmund,
Federal Register Liaison Officer.

[FR Doc. 2020-11368 Filed 5-27-20; 8:45 am]

BILLING CODE 6712-01-P